DEPARTMENT OF COMMERCE

National Oceanic and Atmospheric Administration

50 CFR Part 660

[Docket No. 241022-0278]

RIN 0648-BN08

Magnuson-Stevens Act Provisions; Fisheries Off West Coast States; Pacific Coast Groundfish Fishery; Pacific Coast Groundfish Fishery Management Plan; Amendment 33; 2025-26 Biennial Specifications and Management Measures

AGENCY: National Marine Fisheries Service (NMFS), National Oceanic and Atmospheric Administration (NOAA), Commerce.

ACTION: Final rule.

SUMMARY: This final rule establishes the 2025-26 harvest specifications for groundfish caught in the U.S. exclusive economic zone (EEZ) seaward of Washington, Oregon, and California, consistent with the Magnuson-Stevens Fishery Conservation and Management Act (Magnuson-Stevens Act or MSA) and the Pacific Coast Groundfish Fishery Management Plan (PCGFMP). This final rule also revises management measures intended to keep the total annual catch of each groundfish stock or stock complex within the annual catch limits. These measures are intended to help prevent overfishing, rebuild overfished stocks, achieve optimum yield, and ensure that management measures are based on the best scientific information available. Additionally, this final rule makes minor corrections (e.g., correcting grammar, removing outdated regulations, revisions for clarity) to the regulations, as well as technical corrections recommended by the Pacific Fishery Management Council (Council) at their September 2024 meeting. Last, this final rule implements amendment 33 to the PCGFMP, which establishes a rebuilding plan for California quillback rockfish and revises the allocation framework for shortspine thornyhead.

DATES: Effective January 1, 2025.

ADDRESSES: The Analysis, which addresses the National Environmental Policy Act, Presidential Executive Order 12866, the Regulatory Flexibility Act, and the Magnuson-Stevens Fishery Conservation and Management Act, is accessible via the internet at the NMFS West Coast Region website at https://www.fisheries.noaa.gov/region/west-coast. The final 2024 Stock Assessment and Fishery Evaluation (SAFE) report for Pacific Coast groundfish, as well as the SAFE reports for previous years, are available from the Council's website at https://www.pcouncil.org. The final Council Analytical Document, which describes the Council's final recommendations on the 2025-26 harvest specifications and management measures and amendment 33, is also available from the Council's website at https://www.pcouncil.org.

FOR FURTHER INFORMATION CONTACT: Lynn Massey, Fishery Management Specialist, at 562-900-2060 or lynn.massey@noaa.gov.

SUPPLEMENTARY INFORMATION:

I. Harvest Specifications

This final rule sets 2025-26 harvest specifications and management measures for the 90+ groundfish stocks or management units which currently have annual catch limits (ACLs) or ACL contributions to stock complexes managed under the PCGFMP, except for Pacific whiting. Pacific whiting harvest specifications are established annually through a separate bilateral process with Canada.

The proposed overfishing limits (OFLs), acceptable biological catches (ABCs), and ACLs are based on the best available biological and socioeconomic data, including projected biomass trends, information on assumed distribution of stock biomass, and revised technical methods used to calculate stock biomass. See tables 1a and 2a to Part 660, Subpart C in the regulatory text supporting this rule for the 2025-26 OFLs, ABCs, and ACLs for each stock or stock complex.

A detailed description of each stock and stock complex for which the Council establishes harvest specifications set through this rule can be found in the 2024 SAFE document posted on the Council's website at https://www.pcouncil.org/stock-assessments-star-reports-stat-reports-rebuilding-analyses-terms-of-reference/safe-documents-4/. A summary of how the 2025-26 harvest specifications were developed, including a description of off-the-top deductions for Tribal, research, incidental open access (IOA), and experimental fisheries, was provided in the proposed rule (87 FR 70406, August 29, 2024) and is not repeated here. Additional information on the development of these harvest specifications is also provided in the Analysis.

For most stocks, the Council recommended harvest specifications based on the default harvest control rule used in the prior biennium. The Council recommended deviating from the default harvest control rule for four stocks in 2025-2026. Table 1 presents a summary of the changes to the harvest control rules for these stocks for the 2025-26 biennium. Each of these changes was discussed in the proposed rule and that discussion is not repeated here.

Table 1—Changes to Harvest Control Rules for the 2025-26 Biennium
Stock | Default harvest control rule ᵃ | Alternative harvest control rule ᵃ
Rex Sole | ACL = ABC (P* 0.40) | ACL = ABC (P* 0.45).
Shortspine thornyhead ᵇ | ACL < ABC (P* 0.40) | ACL < ABC (P* 0.45), 40-10 HRC applied.
Dover sole | ACL = 50,000 metric tons (mt) | ACL = ABC (P* 0.45).
Quillback Rockfish off California | ACL contribution < ABC (SPR 0.55; P* 0.45) ᶜ | ABC Rule ᵈ (ACL = ABC; P* 0.45).
ᵃ The Default Harvest Control Rules were used to set the ACLs in 2023 and 2024. The Alternative Harvest Controls rules are the proposed changes for setting the ACLs in 2025 and 2026.
ᵇ The 40-10 adjustment applies where a precautionary reduction is warranted, per the PCGFMP at section 4.6.1. The 40-10 adjustment reduces the harvest rate to help the stock return to the maximum sustainable yield level.
ᶜ In 2023-24, the harvest control rule (ACL contribution < ABC, SPR 0.55; P* 0.45) specified an ACL contribution because quillback rockfish was still part of the Nearshore rockfish complex. For 2025-26, California quillback rockfish is proposed to be taken out of the Nearshore complex and managed pursuant to a stock-specific ACL.
ᵈ The Council recommended the ABC Rule as the alternative harvest control rule based on a range of harvest strategies analyzed in the California Quillback Rockfish Rebuilding Plan new management measure, which is described in section III, P of this preamble.

II. Management Measures

This final rule revises management measures, which are used to further allocate the ACLs to the various components of the fishery (i.e., biennial fishery harvest guidelines and set-asides) and to control fishing. Management measures for the commercial fishery modify fishing behavior during the fishing year to ensure catch does not exceed the ACL, and include trip and cumulative landing limits, time/area closures, size limits, and gear restrictions. Management measures for the recreational fisheries include bag limits, size limits, gear restrictions, fish dressing requirements, and time/area closures. Each of these changes was discussed in the proposed rule and that discussion is not repeated here.

A. Deductions From the ACLs

Before making allocations to the primary commercial and recreational components of groundfish fisheries, the Council recommends “off-the-top deductions,” or deductions from the ACLs to account for anticipated mortality for certain types of activities, including: (1) harvest in Pacific Coast treaty Indian Tribal fisheries; (2) harvest in scientific research activities; (3) harvest in non-groundfish fisheries (i.e., IOA catch); and (4) harvest that occurs under exempted fishing permits (EFPs). As part of NMFS' effort to simplify regulations pertaining to harvest specifications, the footnotes that typically specify these values in tables 1a, 1b, 2a, and 2b of subpart C have been removed, and all off-the-top deductions for individual stocks or stock complexes and are included in the 2024 SAFE. The details of the EFPs are discussed below in section II, I of this preamble and section III, I of the proposed rule.

B. Annual Catch Targets

As defined at 50 CFR 660.11, an annual catch target (ACT) is a management target set below the ACL that may be used as an accountability measure in cases where there is uncertainty in inseason catch monitoring to ensure against exceeding an ACL. Since the ACT is a target and not a limit, it can be used in lieu of harvest guidelines (HGs) or set strategically to accomplish other management objectives. Sector-specific ACTs can also be specified to accomplish management objectives. For the 2025-26 biennium, NMFS is implementing ACTs for yelloweye rockfish in the non-trawl sectors (both commercial and recreational), copper rockfish in the recreational sector south of 34° 27′ North latitude (N lat.), and shortspine thornyhead in the commercial non-trawl sector north of 34° 27′ N lat. Further, NMFS is removing the ACT from the 2023-24 biennium for California quillback rockfish. These ACTs can be found in the footnotes to tables 1a and 2a to part 660, subpart C in the regulatory text of this final rule.

C. Biennial Fishery Allocations

The Council routinely recommends 2-year trawl and non-trawl allocations during the biennial specifications process for stocks without formal allocations (as defined in section 6.3.2 of the PCGFMP) or stocks where the long-term allocation is suspended because the stock is declared overfished. The 2-year trawl and non-trawl allocations, with the exception of sablefish north of 36° N lat., are based on the fishery HG. The fishery HG is the tonnage that remains after subtracting the off-the-top deductions described in section II, A, entitled “Deductions from the ACLs,” in this preamble. The trawl and non-trawl allocations and recreational HGs are designed to accommodate anticipated mortality in each sector as well as variability and uncertainty in those mortality estimates. Additional information on the Council's allocation framework and formal allocations can be found in section 6.3 of the PCGFMP and 50 CFR 660.55 of the Federal regulations. Allocations are detailed in the harvest specification tables appended to 50 CFR part 660, subpart C in the regulatory text of this final rule and described in section III, C of the proposed rule. As proposed, allocations for shortspine thornyhead and widow rockfish are revised with this final rule.

D. Harvest Guideline Sharing Agreements

For each biennium, the Council can consider HG sharing agreements for other stocks or stock complexes separate from the standard list of biennial allocations discussed in section II, C of this preamble and in section III, C of the proposed rule. These sharing agreements can be arrangements on how the HG is split among separate states, fishery sectors, or both. For the 2025-26 biennium, NMFS is implementing sharing agreements for: bocaccio south of 40°10′ N lat., canary rockfish, cowcod, Nearshore rockfish complex north of 40°10′ N lat., sablefish south of 36° N lat., slope rockfish south of 40°10′ N lat., and blackgill rockfish. All sharing agreements are maintained from the 2023-24 biennium, with the exception of sablefish south of 36° N lat. NMFS is implementing a new sharing agreement for sablefish south of 36° N lat. (described in section III, D of the proposed rule) based on a new recreational set-aside. Refer to the Council Analytical Document (see ADDRESSES) for more information on how these HG sharing agreements were chosen. Each of the sharing agreements and the resulting shares between sectors and/or states are published in the SAFE.

E. Modifications to Waypoints for Rockfish Conservation Areas

Rockfish Conservation Areas (RCAs) are large area closures intended to reduce the catch of a rockfish stock or stock complex by restricting fishing activity at specific depths. The boundaries for RCAs are defined by straight lines connecting a series of latitude and longitude coordinates that approximate depth contours. These sets of coordinates, or lines, are not gear or fishery specific, but can be used in combination to define an area. NMFS then implements fishing restrictions for a specific gear and/or fishery within each defined area. For the 2025-26 biennium, NMFS is making coordinate modifications to six waypoints (#95 through 100) on the 50 fathom (fm) line seaward of California between Pt. Arena and Bodega Bay. These modifications would better align existing RCA coordinates with the 50-fm chart-based depth contour.

F. Limited Entry Trawl

The limited entry trawl fishery is made up of the shorebased individual fishing quota (IFQ) program (for whiting and non-whiting) and the at-sea whiting sectors (Mothership (MS) and catcher-processor (C/P)). For some stocks and stock complexes with a trawl allocation, an amount is first set-aside for the at-sea whiting sector with the remainder of the trawl allocation going to the Shorebased IFQ sector. Set-asides are not managed by NMFS or the Council except in the case of a risk to the ACL.

At-Sea Set Asides

For several species, the trawl allocation is reduced by an amount set-aside for the at-sea whiting sector. This amount is designed to accommodate catch by the at-sea whiting sector when they are targeting Pacific whiting. This final rule adopts at-sea set asides as shown in section III, F, table 11 of the proposed rule.

Incidental Trip Limits for IFQ Vessels

For vessels fishing in the Shorebased IFQ Program, with either groundfish trawl gear or non-trawl gears, the following incidentally-caught stocks are managed with trip limits: Nearshore rockfish complex north and south of 40°10′ N lat., Washington black rockfish, Oregon black/blue/deacon rockfish complex, cabezon (46°16′ to 40°10′ N lat. and south of 40°10′ N lat.), Pacific spiny dogfish, longspine thornyhead south of 34°27′ N lat., big skate, California scorpionfish, longnose skate, Pacific whiting, and the Other Fish complex. As described in the proposed rule in section III, F, this rule maintains the same IFQ fishery trip limits for these stocks for the start of the 2025-26 biennium as those in place in 2024. Trip limits for the IFQ fishery can be found in table 1b (North) and table 1b (South) to part 660, subpart D in the regulatory text of this final rule. Changes to trip limits would be considered a routine measure under § 660.60(c), and may be implemented or adjusted, if determined necessary, through inseason action.

G. Limited Entry Fixed Gear (LEFG) and Open Access (OA) Non-Trawl Fishery

Management measures for the LEFG and OA non-trawl fisheries tend to be similar because the majority of participants in both fisheries use hook-and-line gear. Management measures, including area restrictions (e.g., Non-Trawl RCA) and trip limits in these non-trawl fisheries, are generally designed to allow harvest of target stocks while keeping catch of overfished stocks low. LEFG trip limits are specified in table 2b (North) and table 2b (South) to subpart E in the regulatory text of this final rule. OA trip limits are specified in table 3b (North) and table 3b (South) to subpart F, in the regulatory text of this final rule. HG sharing agreements between non-trawl sectors are published in the SAFE.

LEFG and OA Trip Limits

NMFS is implementing status quo trip limits for LEFG and OA fisheries in 2025, with the exception of the OA trip limit for lingcod north of 42° N lat., which is being decreased from 11,000 pounds (lb) (4,990 kilograms (kg)) per 2 months, to 9,000 lb (4,082 kg) per 2 months, to ensure the OA trip limit is lower than the LEFG trip limit. NMFS is also modifying the temporal component (i.e., monthly to bimonthly) of multiple OA and LEFG trip limits. Consolidating trip limits from monthly to bimonthly is expected to reduce regulatory complexity and confusion. With the exception of the trip limit for lingcod north of 42° N lat., trip limit amounts that were monthly will double for the bimonthly trip limit (i.e., a trip limit that was 100 lb (45 kg) monthly will become a 200 lb (91 kg) trip limit in the bimonthly option). The Council could recommend further adjustment to the trip limits through additional inseason action, once more data on the current limits is collected and the effects on mortality, particularly discard mortality, are better understood. More information on these trip limits can be found in the Council Analytical Document (see ADDRESSES).

Primary Sablefish Tier Limits

The primary sablefish fishery tier program is a limited access privilege program set up under amendment 14 to PCGFMP (66 FR 41152, August 7, 2001). Participants hold limited entry permits with a pot gear and/or longline gear endorsement and a sablefish endorsement.

Under amendment 14, as set out in 50 CFR 660.231, the permit holder of a sablefish-endorsed permit receives a tier limit, which is an annual share of the sablefish catch allocation to this sector. NMFS sets three different tier limits through the biennial harvest specifications and management measures process and up to three permits may be stacked at one time on a vessel participating in the fishery. Stacked tier limits are combined to provide a cumulative catch limit for that vessel. After vessels have caught their full tier limits, they are allowed to move into other fisheries for sablefish, specifically the LEFG or OA trip limit fishery, or fisheries for other species. The tier limits for 2025 are as follows: Tier 1 at 246,824 lb (111,957 kg), Tier 2 at 112,193 lb (50,890 kg), and Tier 3 at 64,110 lb (29,080 kg). The tier limits for 2026 are as follows: Tier 1 at 234,312 lb (106,282 kg), Tier 2 at 106,506 lb (48,310 kg), and Tier 3 at 60,860 lb (27,606 kg).

H. Recreational Fisheries

Management measures for the recreational fisheries typically include depth restrictions and bag limits to constrain catch within the recreational HGs for each stock. These measures are designed to limit catch of overfished stocks found in the waters adjacent to each state while allowing target fishing opportunities in their particular recreational fisheries. Washington, Oregon, and California each proposed, and NMFS is implementing, different combinations of seasons, bag limits, area closures, and size limits for stocks targeted in recreational fisheries, as described in section III, H of the proposed rule. This final rule would set these measures for recreational fisheries occurring in the EEZ. Each state, respectively, typically sets measures for recreational fisheries in State waters. Changes to management measures for recreational fisheries off the coasts of Washington, Oregon and California can be found in § 660.360 of the regulatory text of this final rule.

I. Permit Program for the Directed OA Fishery Sector

NMFS is implementing a new permit program for the directed OA sector starting on March 1, 2025. The directed OA fishery is defined in 50 CFR 660.11 under “open access fishery” and includes those vessels targeting groundfish pursuant to the OA regulations under Part 660 subpart F. It does not include vessels that retain groundfish incidentally to non-groundfish target species (e.g., the salmon troll fishery, which may retain incidentally caught groundfish). For more background information on this measure, see section III, J of the proposed rule.

The permit program will require vessels that intend to participate in the directed OA sector to register their information, pay an administrative fee, and obtain a permit on an annual basis. Permits will expire on the last day of the birth month of the permit holder. The number of permits will not be capped. Permits will be assigned to a vessel owner per vessel (i.e., if an owner intends to use two vessels in the directed OA fishery, they would need to obtain two permits, one for each vessel). Applications will be available year-round with an estimated 2-week turnaround between when an applicant submits a complete application and when a permit is issued; therefore, directed OA participants will need to do some short-term planning ahead for their participation in the sector. NMFS will use its existing web-based application with digital submission and delivery of the permit applications and to allow participants to provide either digital or paper proof of permit upon request. Required application information includes vessel ownership documentation from either the U.S. Coast Guard or state registration form. Permit lists would be shared with the West Coast Groundfish Observer Program for observer selection purposes.

All permits issued by NMFS carry an administrative cost, per the requirements for user fees based on the provision of a service. These costs vary based on the administrative costs of receiving applications, reviewing applications and any associated required documentation, and issuing permits, as a factor of the number of expected applications. The cost of the directed OA permit is estimated to be $73 per permit. This amount was determined in accordance with the NOAA Finance Handbook available at https://www.corporateservices.noaa.gov/finance/documents/NOAAFinanceHBTOC_09.06.19.pdf and will be specified on the application form. The fee must be submitted with the application for the application to be considered complete. NMFS periodically recalculates the cost of permits, and will notify affected users on the application form in the future if the cost changes.

In the proposed rule, NMFS solicited public comment on whether vessel monitoring system (VMS) information should be required during the application process for the directed OA permit. All directed OA vessels are required to obtain and activate VMS in accordance with 50 CFR 660.14. NMFS did not receive any formally-submitted public comment related to this aspect of the proposed rule and after additional consideration, NMFS has decided to include this requirement in this final action. Specifically, the directed OA application will require the “passcode,” which is a code given to a fisherman when NOAA's Office of Law Enforcement confirms that their VMS unit has been activated. If fishermen do not know their passcode, they can call the West Coast Groundfish Declarations Line at 1-888-585-5518 to obtain that information.

Additionally, in the proposed rule, NMFS solicited public comment on whether or not the ability to dual declare both a directed OA declaration code (codes 33 through 35 at § 660.13(d)(4)(iv)(A)) and an IOA declaration code should be restricted. The purpose of this restriction would be to better delineate directed OA fishermen from IOA fishermen. NMFS did not receive any written public comment related to this aspect of the proposed rule and, after additional consideration, NMFS has decided to not restrict this activity.

J. Update Electronic Monitoring Program Discard and Retention Requirements

NMFS is modifying the regulations pertaining to discard and retention requirements in the Electronic Monitoring (EM) program for non-IFQ species, to include sablefish and rex sole, and to exclude California halibut. The addition of sablefish and rex sole to the existing list in regulations, and removing California halibut from them, align current practices with the vessel monitoring plans that were approved under the Electronic Monitoring Program EFP. For more background information on this measure, see section III, K of the proposed rule.

K. Shortspine Thornyhead Allocation Framework

NMFS is modifying the allocation framework for shortspine thornyhead. These modifications include removing the management line at 34°27′ N lat. and combining the area-specific ACLs, off-the-top deductions, HGs, and trawl/non-trawl allocations that would have otherwise been assigned north and south of 34°27′ N lat. NMFS is also changing shortspine thornyhead to a 2-year allocation species (i.e., trawl/non-trawl allocation amounts will be set biennially as opposed to specified in the PCGFMP). See table 1a and table 2a to subpart C in the regulatory text of this final rule for the new 2025 and 2026 ACLs, and see table 1b and table 2b to subpart C in the regulatory text of this final rule for the new biennial trawl/non-trawl allocations. These allocation amounts may be revisited by the Council in future biennia. For more background information on this measure, see section III, L of the proposed rule.

L. Requirement for Recreational Vessels To Possess a Descending Device

NMFS is implementing a new management measure that requires recreational vessels fishing in Federal waters seaward of Washington, Oregon, or California, to possess a functional descending device. The requirement is one functional descending device per vessel, regardless of the number of anglers onboard. Although each of the respective states have their own requirements, those requirements are only applicable in State waters. This management measure applies to any vessel fishing for groundfish under recreational catch limits in Federal waters, thus creating continuity across State and Federal regulations. Anglers are required to present the descending device at the request of an enforcement officer. For more background information on this measure, see section III, M of the proposed rule.

M. Modification to Continuous Transit Limitations for California Recreational Vessels

NMFS is modifying the continuous transit regulations for California recreational vessels. These changes allow recreational vessels to stop and/or anchor in Federal waters shoreward of a Recreational RCA line, provided that no hook-and-line gear is deployed. NMFS took temporary emergency action to modify the continuous transit regulations for the 2024 fishing year (89 FR 22352, April 1, 2024 and 89 FR 67326, August 20, 2024). NMFS is making the same modifications permanent through this action for the 2025-26 biennium and beyond. For more background information on this measure, see section III, N of the proposed rule.

N. Change to the Scientific Name of Pacific Sand Lance and the Common Name of Pacific Spiny Dogfish

NMFS is making administrative changes to the regulations that correct the scientific name of Pacific sand lance and the common name of Pacific spiny dogfish. The scientific name for Pacific sand lance at § 660.5(a) is incorrectly listed as Ammodytes hexapterus. The correct scientific name for this species is Ammodytes personatus. The common name for spiny dogfish (Squalus suckleyi) has changed to include “Pacific” thus the correct common name is Pacific Spiny Dogfish.

O. Rebuilding Plan for California Quillback Rockfish

NMFS is implementing a rebuilding plan for California quillback rockfish. NMFS declared California quillback rockfish overfished in December 2023 in response to a data-moderate assessment conducted by the Northwest Fisheries Science Center in 2021 (Agenda Item E.2, Attachment 4, November 2021). When NMFS declares a stock overfished, the Council must develop and manage the stock in accordance with a rebuilding plan (50 CFR 600.310(j)), which must include certain rebuilding parameters, including TMIN, TMAX, and TTARGET. In March 2024, the Council adopted the California quillback rockfish rebuilding analysis (Agenda Item F.2 Attachment 1, March 2024), which specified the following rebuilding parameters: TMIN = 2045, TMAX = 2071, and mean generation time of 26 years. TTARGET (2060) was selected based on the chosen rebuilding strategy, which is the stock's ABC Rule (ACL = ABC; P* 0.45). As shown in the Analysis, this rebuilding strategy has a 50 percent probability of rebuilding the stock by 2060 (TTARGET) and 73.6 percent probability of rebuilding by TMAX (2071). Accordingly, this strategy will rebuild the stock within the MSA-mandated timeframe, while still providing some fishing opportunity to meet the needs of the fishing communities. For more information about how these rebuilding parameters were developed, see the Analysis and section III, P of the proposed rule.

The majority of quillback rockfish fishing mortality occurs in State waters. The rebuilding plan only applies in the EEZ. NMFS expects to work cooperatively with the California Department of Fish and Wildlife (CDFW) on any measures the state deems fit to apply in state waters to support rebuilding throughout the stock's range. Mortality of California quillback rockfish in state waters will be deducted from the Federal ACL.

P. Administrative Changes to 50 CFR Part 660

This final rule makes minor corrections to the regulations at 50 CFR part 660, which were included in the proposed rule. These minor corrections are necessary to reduce confusion and inconsistencies in the regulatory text, alleviate enforcement challenges, and ensure the regulations accurately implement the Council's intent.

At § 660.11, NMFS removed the definition for “grandfathered or first generation” because it is a term that is no longer used in Federal regulations.

At § 660.13, NMFS made various changes to the non-trawl logbook regulations. First, at § 660.13(a)(3)(ii)(A) and (B), NMFS amended the regulations to clarify that information on setting and retrieving gear must be recorded for every set. The regulations as previously written: “Logbook entries for setting gear, including vessel information, gear specifications, set date/time/location, must be completed within 2 hours of setting gear” created enforcement challenges because some fishermen interpreted the regulations to mean that they were only required to record information once all of their gear was deployed (i.e., if they set a portion of their gear on one day, and the rest of their gear the next day, they interpreted that to mean the 2-hour requirement starts after the last piece of gear is set). Amending these regulations clarifies that the 2-hour and 4-hour requirements for setting and retrieving gear apply to each individual set. Second, at § 660.13(a)(3)(ii)(A) and (B), NMFS clarified that all logbook information, whether recorded inside or outside of the electronic application, must be available at-sea for review by an enforcement officer. The regulations as written: “Information recorded outside of the logbook entry must be available for review at-sea by authorized law enforcement personnel upon request” have led to enforcement challenges because some fishermen have interpreted the regulations to mean they are only required to show enforcement officers logbook data that they have recorded outside of the electronic application. Amending these regulations clarifies that all logbook data, whether recorded in the electronic application or by some other method, must be available for review by an enforcement officer. Third, NMFS removed the paragraph at § 660.13(a)(4), as the non-trawl paper logbook provision will expire at the end of 2024 and this regulation will no longer be relevant starting in 2025.

At § 660.55(i)(2), NMFS clarified that at-sea set-asides are described in the biennial specifications process and not “in Tables 1D and 2D of this subpart” as previously stated.

At § 660.60(c)(1)(i), NMFS removed the cross reference to “(c)(1)(i)(A) and (B) of this section” as those references no longer exist.

At § 660.60(g) and § 660.65, NMFS clarified the language about how catch of groundfish species in state waters is accounted for under Federal harvest specifications.

At § 660.140(g), NMFS added a sentence clarifying that IFQ species with discard mortality rates (DMRs) should be appropriately accounted for when deducting discard amounts from quota pounds (QP) in vessel accounts. As previously written, the regulations stated that discarded species must be accounted for and deducted from QP in vessels accounts, but they did not state that the species with reduced discard amounts because of DMRs should be accounted for when deducting discard amounts from QP in vessels accounts. Revising this regulation clarifies that IFQ species with DMRs should also be accounted for when deducting discard amounts from QP in vessel accounts.

At § 660.230(b) and § 660.330(b), NMFS removed the 25-hook maximum limit on each mainline. As previously written, the regulations precluded fishermen from adjusting the number of hooks on mainlines if they were using fewer than four mainlines. For example, if a fisherman chooses to only have two mainlines in the water, then the intent of the regulations is to allow a maximum of 50 hooks on each mainline. However, as previously written, the fisherman would still only be able to use 25 hooks per mainline. The gear specifications require that no more than 100 hooks may be in the water, therefore, removing the 25-hook maximum does not change the intent of the regulations.

At § 660.231, NMFS revised the paragraph at (b)(3)(iv) to improve readability. The purpose of these revisions is to make the regulatory text less confusing for fishermen and enforcement to interpret. No substantive changes to this regulation were made.

III. Comments and Responses

The notice of availability (NOA) for amendment 33 to the PCGFMP was published on August 2, 2024 (89 FR 63153). NMFS received one supportive public comment on the NOA. The proposed rule was published on August 29, 2024 (87 FR 70406). NMFS received two public comments which were generally supportive of the proposed rule, one of which offered technical corrections. All public comments pertaining to the changes to the PCGFMP and harvest specification and management measures described in the proposed rule are summarized and addressed below.

Comment 1: CDFW submitted a public comment that supported the proposed rule. CDFW also provided NMFS with a list of technical corrections and clarifications to the text in the preamble of the proposed rule.

Response: NMFS thanks CDFW for their support and thorough review of the proposed rule. All technical corrections and clarifications requested by CDFW were to text or tables in the preamble of the proposed rule; none of which are carried forward in the preamble of this final rule. However, NMFS affirms the below technical corrections and clarifications to the proposed rule preamble text and tables.

On page 70414, the cabezon IOA set-aside for 2025 in table 5 was incorrectly listed as 0.06 mt. The correct value is 0.6 mt. With the implementation of this final rule, IOA set-asides are no longer specified in regulatory text, but will be available in the SAFE posted on the Council's website (see ADDRESSES).

On page 70416, the 2026 bocaccio south of 40°10′ N lat. non-trawl percentage and value in table 8 was incorrectly listed as 60 percent and 1,025.1 mt. The correct values are 61 percent and 1,012.7 mt. These values were correctly listed in the proposed regulatory text in table 2b to Part 660, Subpart C on page 70436.

On page 70421, the season dates for the Northern Mendocino, San Francisco, and part of the Central Groundfish Management Areas (GMAs) were incorrectly listed as April 1-April 31. The correct dates are April 1-April 30. Additionally, on page 70421 in the same paragraph, the “closed in the EEZ” text, listed between the October and December seaward of 50 fm fisheries, did not provide a corresponding time for that closure, which should be November 1-November 30. These season dates and time ranges were accurately listed in table 13 on page 70421. Last, on page 70421, CDFW recommended that NMFS use consistent naming conventions for the Central Management Areas, as CDFW uses in their state regulations. NMFS lists these two areas as Central Management Area (37°11′ N lat. to 36° N lat.) and Central Management Area (36° N lat. to 34°27′ N lat.), whereas CDFW refers to these areas as “Central north” and “Central south.” NMFS will consider this recommendation in the drafting of future rulemakings.

On page 70422, CDFW commented that NMFS mis-characterized how RCA lines have historically been used for recreational fisheries. NMFS agrees that using a range of depths, i.e., implementing an RCA closure between two fathom lines, is a standard practice for the commercial non-trawl fishery, and not the recreational fishery as the proposed rule text suggests. Additionally, on page 70422, CDFW commented that NMFS incorrectly identified the first time that the 50 fm “offshore fishery” management measure was enacted. NMFS cited the Council's September 2023 inseason action (88 FR 67656, October 2, 2023) as the first time the 50 fm “offshore fishery” came into effect, while CDFW commented that such an “offshore fishery” was in effect from May 15 to July 15, 2023, in the San Francisco and Mendocino GMAs, and that offshore only fisheries were also scheduled to occur from October 1 through December 31, 2023, in the Central GMA, and from September 16 through December 31, 2023, in the Southern GMA. These scheduled offshore fishery management measure actions identified by CDFW were enacted by CDFW through their State regulations. Thus, NMFS correctly cited the September 2023 inseason action as the first time that an “offshore fishery” management measure was enacted in Federal waters through the Council process. Next, on page 70422, NMFS affirms CDFW's comment that the seasonal Recreational RCA boundaries listed in table 13 are not an “exception” to the recreational management measures to be carried forward from 2024 to the 2025-26 biennium, as the text suggests. No changes were made to the season structure and depth limits by management area between 2024 and 2025-26. NMFS did however change the language used in table 13 to describe when recreational vessels are required to fish shoreward of 20 fm (i.e., NMFS denotes “closed in the EEZ” instead of “<20 fm”). Last, on page 70422, when discussing the modification of filet requirements for select groundfish species, CDFW recommended that NMFS specify the “entire skin” when referring to the skin that is required to be left on the filet. NMFS affirms that the intent is for the “entire skin” to be left on the filet in the modified requirements.

The remainder of CDFW's suggestions, such as deleting commas and rearranging paragraphs, do not apply in this final rule as the text commented on is not being carried forward in this final rule.

Comment 2: The Pacific Whiting Conservation Cooperative (PWCC) submitted a comment that supports the proposed rule; specifically the proposed set-asides for the at-sea Pacific whiting sectors.

Response: NMFS thanks the PWCC for their support and appreciates their collaboration on the development of the set-asides.

Comment 3: An anonymous individual submitted a comment on the NOA that supports the proposed amendment, including the California Quillback Rockfish Rebuilding Plan and the revised allocation framework for shortspine thornyhead.

Response: NMFS thanks the commenter for their support of the proposed amendment.

IV. Council-Recommended Corrections to the Proposed Rule

At the September 2024 meeting, the Council discussed and recommended necessary corrections to the proposed rule that were discovered by Council and NMFS staff during the preparation of the proposed rule. The Council also recommended that certain inseason changes for 2024 be carried over to the start of 2025. In alignment with the Council's recommendations, NMFS offers the following corrections and carryover changes in this final rule. These corrections and changes to the proposed rule do not change the substance or intent of this action.

In tables 1a, 1b, 2a, and 2b to 50 CFR part 660 Subpart C in the regulatory text of the proposed rule (see 87 FR 70434 through 87 FR 70438), the OFLs, ABCs, ACLs, and biennial allocations for the Shelf Rockfish complexes north and south of 40°10′ N lat are incorrect. In addition, the trawl IFQ allocations for north of 40°10′ N lat on table 1 to paragraph (d)(1)(ii)(D) to Part 660 Subpart D are incorrect (see 87 FR 70439). These errors occurred because the harvest specifications for greenspotted rockfish, which is a component species of the Shelf Rockfish complexes, were incorrect in the Council's final Analytical Document (see ADDRESSES), and those specifications contributed to the overall OFLs, ABCs, ACLs, and allocations for the Shelf Rockfish complexes specified in the proposed rule. The Council's Scientific and Statistical Committee reviewed and approved the revised OFLs and ABCs at the Council's September 2024 meeting. Specifically, the corrected harvest specifications, biennial allocations, and trawl IFQ allocations for the Shelf Rockfish complexes can be found in Agenda Item I.6 Supplemental Revised Attachment 1 September 2024 (see pcouncil.org) and in tables 2 through 5 below. These corrections are incorporated into tables 1a, 1b, 2a, and 2b to CFR 50 Part 660 Subpart C and table 1 to paragraph (d)(1)(ii)(D) to Part 660 Subpart D in the regulatory text of this final rule.

Table 2—2025 Harvest Specifications for the Shelf Rockfish Complex North and South of 40°10′ N Lat., Corrected, Values in mt
Area | 2025 OFL | 2025 ABC | 2025 ACL | 2025 HG
North of 40°10′ N lat | 1,668.66 | 1,329.7 | 1,329.6 | 1,250.4
South of 40°10′ N lat | 1,827.6 | 1,457.7 | 1,457.12 | 1,430.52

Table 3—2026 Harvest Specifications for the Shelf Rockfish Complex North and South of 40°10′ N Lat., Corrected, Values in mt
Area | 2026 OFL | 2026 ABC | 2026 ACL | 2026 HG
North of 40°10′ N lat | 1,654.54 | 1,316.3 | 1,316.2 | 1,263.8
South of 40°10′ N lat | 1,827.12 | 1,455.37 | 1,454.89 | 1,428.4

Table 4—2025 and 2026 Trawl/Non-Trawl Allocations for the Shelf Rockfish Complex North and South of 40°10′ N Lat., Corrected, Values in mt
Area | 2025 Trawl | 2025 Non-trawl | 2026 Trawl | 2026 Non-trawl
North of 40°10′ N lat | 760.81 | 502.99 | 752.74 | 497.66
South of 40°10′ N lat | 174.52 | 1,256.0 | 174.27 | 1,254.14

Table 5—2025 and 2026 Trawl IFQ Allocations for the Shelf Rockfish Complex North of 40°10′ N Lat., Corrected, Values in mt
Area | 2025 | 2026
Trawl allocation | 760.81 | 752.74
At-sea Set-Aside | 35 | 35
IFQ | 725.81 | 717.74

In table 3b (South) to Part 660 Subpart F in the regulatory text of the proposed rule (see 87 FR 70446), the trip limit for sablefish between 40°10′ N lat. and 36° N lat. is incorrect. In alignment with the Council's recommendation, NMFS is changing the trip limit to 3,250 lbs. (1,474 kg) per week not to exceed 6,500 lbs. (2,948 kg) per 2 months. More information on the corrected trip limit can be found in Agenda Item I.6.a Supplemental GMT Report 1 September 2024 (see pcouncil.org).

Additionally, in alignment with the Council's recommendation, NMFS is changing the LEFG and OA trip limits for cabezon and the Nearshore Rockfish complex in the area south of 40°10′ N lat. The purpose of these changes is to align Federal trip limits with California state trip limits at the beginning of 2025, which will reduce enforcement complexity and simplify regulations for fishermen. For more information on these trip limit changes, see Agenda Item I.6.a Supplemental GMT Report 1 September 2024 at pcouncil.org. The trip limit changes in table 6 below are incorporated into tables 2b (South) and 3b (South) to Part 660 Subpart F in the regulatory text of this final rule.

Table 6—LEFG and OA Trip Limits for Cabezon and the Nearshore Rockfish Complex for South of 40°10′ N Lat., Revised
Species | Trip limit
Cabezon (40°10′ N lat.-37°07′ N lat.) | CLOSED.
Cabezon (south of 37°07′ N lat.) | Unlimited.
Nearshore rockfish complexes:
Shallow nearshore rockfish complex (40°10′ N lat.-37°07′ N lat.) | CLOSED.
Shallow nearshore rockfish complex (south of 37°07′ N lat.) | 2,000 lb/2 months.
Deeper nearshore rockfish complex (40°10′ N lat.-37°07′ N lat.) | CLOSED.
Deeper nearshore rockfish complex (south of 37°07′ N lat.) | 2,000 lb/2 months, of which no more than 75 lb may be copper rockfish.

V. Other Changes to the Proposed Rule

NMFS offers the below additional changes to the proposed rule. These changes are additional clarifying changes that NMFS deems necessary to achieve regulatory consistency and accuracy. These clarifications and corrections to the information provided in the proposed rule do not change the substance or intent of this action.

Table 2a to Part 660, Subpart C in the regulatory text of the proposed rule (see 87 FR 70436) shows an incorrect area delineation for the Nearshore Rockfish North complex. The area delineation is listed as N of 42° N lat., whereas it should be listed as N of 40°10′ N lat. NMFS has corrected this error in Table 2a to Part 660, Subpart C in the regulatory text of this final rule.

In table 1b to Part 660 Subpart C of the regulatory text of the proposed rule (see 87 FR 70434), the 2025 non-trawl allocation (i.e., the non-trawl HG) of 38.5 mt for yelloweye rockfish is incorrect. The correct value of 37.7 mt is incorporated into table 2b Part 660 Subpart C of the regulatory text of this final rule.

In table 1 to Paragraph (d)(1)(ii)(D), the 2025 Shorebased trawl allocations were incorrect for arrowtooth flounder, dover sole, lingcod north of 40°10′ N lat., widow rockfish, the Other flatfish complex, and the Shelf Rockfish complex north of 40°10′ N lat. Additionally, the 2026 Shorebased trawl allocations were incorrect for yelloweye rockfish, arrowtooth flounder, cowcod south of 40°10′ N lat., canary rockfish, sablefish north of 36° N lat., sablefish south of 36° N lat., widow rockfish, the Shelf Rockfish complex north of 40°10′ N lat., and the Shelf Rockfish complex south of 40°10′ N lat.. These errors occurred either because of rounding error or because of a miscalculation in subtracting the 2025-26 at-sea set-asides for the at-sea Pacific whiting sectors. NMFS has corrected these values in table 1 to paragraph (d)(1)(ii)(D) in the regulatory text of this final rule.

Since the proposed rule (87 FR 70406) published, NMFS has recognized that there may be confusion about how renewal of the directed OA permit will work during 2025. NMFS has set the expiration date for the directed OA permits as the last day of the permit holder's birthday month. Therefore, there was ambiguity regarding whether a permit holder would need to pay for the directed OA permit twice if, for example, they receive a directed OA permit in January 2025, but their birthday month is in March 2025. To prevent multiple charges for directed OA permits in 2025, NMFS has added a paragraph under § 660.25(i)(2)(iv)(A) to clarify that directed OA permits issued in 2025 will be valid for the remainder of 2025 and through the permit holder's birthday month in 2026. For directed OA permits issued in 2026, and after, the duration of a directed OA permit will be no longer than 1 year and the expiration will be on the last day of the permit holder's birthday month. NMFS also added additional language at § 660.14(d)(4)(iii) to allow a VMS exemption if a directed OA permit has not been renewed and the vessel is not participating in a different fishery that requires VMS. If NMFS does not provide this exemption, then the vessel would be required to have VMS for the remainder of the fishing year, regardless of its fishing activity.

Additionally, NMFS is making a minor administrative revision to a regulation promulgated in this final rule to clarify existing requirements for logbooks. NMFS added a sentence under § 660.13(a)(3)(ii) explaining that non-trawl logbook submissions are not required if no fish were caught or discarded on a fishing trip. In reviewing the corrections to the non-trawl logbook regulations in 50 CFR part 660 noticed in the proposed rule, NMFS noted ambiguity in the current regulations regarding whether logbook submissions are required if no fish are caught or discarded on a fishing trip and accordingly added a sentence under § 660.13(a)(3)(ii) to clarify logbook submission is not required in such circumstances.

Lastly, NMFS included regulations in the proposed rule that remove the Farallon Islands from the list of Groundfish Conservation Areas at §§ 660.11, 660.70, 660.230, and 660.330. The reason for removing the Farallon Islands from these lists is because the only fishery regulations pertaining to the Farallon Islands apply within 10 fm (18 m), which is entirely in State waters. Therefore, NMFS removed the closure from Federal regulations. Although the regulatory revisions were included in the proposed rule, NMFS did not describe the change in the preamble and is therefore highlighting the changes in this final rule.

VI. Classification

Pursuant to section 304(b)(1)(A) and section 305(d) of the Magnuson-Stevens Act, the NMFS Assistant Administrator has determined that this final rule is consistent with the PCGFMP, other provisions of the Magnuson-Stevens Act, and other applicable law.

NMFS finds good cause to waive the 30-day delay in effectiveness pursuant to 5 U.S.C. 553(d)(3), so that this final rule may become effective on January 1, 2025. This action establishes the final specifications (i.e., annual catch limits) for the Pacific Coast groundfish fisheries for the 2025 fishing year, which begins on January 1, 2025. If this final rule is not effective on January 1, 2025, then the fishing year begins using the catch limits and management measures from 2024.

Pursuant to Executive Order 13175, this rulemaking was developed after meaningful consultation and collaboration with Tribal officials from the area covered by the PCGFMP. Under the MSA at 16 U.S.C. 1852(b)(5), one of the voting members of the Council must be a representative of an Indian Tribe with federally recognized fishing rights from the area of the Council's jurisdiction. In addition, regulations implementing the PCGFMP establish a procedure by which the Tribes with treaty fishing rights in the area covered by the PCGFMP request new allocations or regulations specific to the Tribes, in writing, before the first of the two meetings at which the Council considers groundfish management measures. The regulations at 50 CFR 660.50 further direct NMFS to develop Tribal allocations and regulations in consultation with the affected Tribes. The Tribal management measures in this rule have been developed following these procedures. The Tribal representative on the Council made a motion to adopt the non-whiting Tribal management measures, which was passed by the Council. Those management measures, which were developed and proposed by the Tribes, are included in this final rule.

This final rule has been determined to be not significant for purposes of Executive Order 12866.

NMFS prepared an Analysis for this action, which addresses the statutory requirements of the MSA, Presidential Executive Order 12866, and the Regulatory Flexibility Act. The full suite of alternatives analyzed by the Council can be found on the Council's website at www.pcouncil.org. NMFS addressed the statutory requirements of the National Environmental Policy Act through preparation of an Environmental Assessment (EA), which is included in the Analysis. The EA concluded that there will be no significant impact on the human environment as a result of this rule. A copy of the Analysis is available from NMFS (see ADDRESSES).

The Chief Counsel for Regulation of the Department of Commerce certified to the Chief Counsel for Advocacy of the Small Business Administration during the proposed rule stage that this action would not have a significant economic impact on a substantial number of small entities. The factual basis for the certification was published in the proposed rule, and is not repeated here. No comments were received regarding this certification. As a result, a final regulatory flexibility analysis was not required and none was prepared.

This final rule contains a collection-of-information requirement subject to review and approval by the Office of Management and Budget (OMB) under the Paperwork Reduction Act (PRA). This rule revises existing requirements for information collection 0648-0203, Northwest Region Federal Fisheries Permits. The main change to this collection is the addition of a new directed groundfish OA fishery permit. The addition of this permit will increase the number of respondents for this collection by 400 respondents. The public reporting burden for the directed groundfish OA permit is estimated to average 20 minutes per respondent, including the time for reviewing instructions, searching existing data sources, gathering and maintaining the data needed, and completing and reviewing the collection of information. This results in an additional 133 hours for the time burden for this collection (1,953 hours to 2,086 hours). The additional permit will also result in additional labor costs of $2,226.67 and $40,000 in miscellaneous costs to the public.

We invite the general public and other Federal agencies to comment on proposed and continuing information collections, which helps us assess the impact of our information collection requirements and minimize the public's reporting burden. Written comments and recommendations for this information collection should be submitted at the following website www.reginfo.gov/public/do/PRAMain. Find this particular information collection by using the search function and entering either the title of the collection or the OMB Control Number 0648-0203.

Notwithstanding any other provision of the law, no person is required to respond to, nor shall any person be subject to a penalty for failure to comply with, a collection of information subject to the requirements of the PRA, unless that collection of information displays a currently valid OMB Control Number.

List of Subjects in 50 CFR Part 660

Fisheries, Fishing, Reporting and recordkeeping requirements.

Dated: November 22, 2024.
Samuel D. Rauch, III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. Amend part 660 by:

a. Removing the word “non-coop” and adding in its place the word “non-cooperative” wherever it appears;

b. Removing the word “coop's” and adding in its place the word “cooperative's” wherever it appears;

c. Removing the name “nontrawl RCA” and adding in its place the name “Non-Trawl RCA” wherever it appears; and

d. Removing the word “nontrawl” and adding in its place the word “non-trawl” wherever it appears.

3. Amend § 660.5 by revising paragraph (a)(3) to read as follows:

§ 660.5 Shared Ecosystem Component Species.

(a) * * *

(3) Pacific sand lance (Ammodytes personatus)

* * * * *

4. Amend § 660.11:

a. In the definition of “Conservation areas(s)” by removing paragraph (1)(v); redesignating paragraphs (1)(vi), (vii), and (viii) as paragraphs (1)(v), (vi), and (vii); and revising newly redesignated paragraphs (1)(vi)(A) and (B);

b. By removing the definition of “Grandfathered or first generation”;

c. In the definition of “Groundfish” by revising paragraphs (1) and (7); and

d. In the definition of “Open access fishery” by revising paragraph (1) and adding paragraph (2).

The revisions and addition read as follows:

§ 660.11 General definitions.

* * * * *

Conservation area(s) * * *

(1) * * *

(vi) * * *

(A) Trawl (Limited Entry and Open Access Non-groundfish Trawl Gears) RCAs. The Trawl RCAs are intended to protect a complex of species, such as overfished shelf rockfish species, and have boundaries defined by specific latitude and longitude coordinates approximating depth contours. Boundaries for the limited entry Trawl RCA throughout the year are provided in table 1a (North) subpart D of this part. Boundaries for the open access non-groundfish Trawl RCA throughout the year are provided in § 660.333(e). Boundaries of the Trawl RCAs may be modified by NMFS inseason pursuant to § 660.60(c).

(B) Non-Trawl (Limited Entry Fixed Gear and Open Access Non-Trawl Gears) RCAs. Non-Trawl RCAs are intended to protect a complex of species, such as overfished shelf rockfish species, and have boundaries defined by specific latitude and longitude coordinates approximating depth contours. Boundaries for the Non-Trawl RCA throughout the year are provided in tables 2a (North) and 2a (South) of subpart E of this part and tables 3a (North) and 3a (South) of subpart F of this part and may be modified by NMFS inseason pursuant to § 660.60(c).

* * * * *

Groundfish * * *

(1) Sharks: Leopard shark, Triakis semifasciata; soupfin shark, Galeorhinus zyopterus; Pacific spiny dogfish, Squalus suckleyi.

* * * * *

(7) Rockfish: “Rockfish” in the PCGFMP include all genera and species of the family Scorpaenidae that occur off Washington, Oregon, and California, even if not listed below, including longspine thornyhead, Sebastolobus altivelis, and shortspine thornyhead, S. alascanus. Where species below are listed both in a geographic category (nearshore, shelf, slope) and as an area-specific listing (north or south of 40°10′ N lat.) those species are managed within a complex in that area-specific listing.

(i) Nearshore rockfish includes black rockfish, Sebastes melanops (off Washington and California) and the following nearshore rockfish species managed in complexes:

(A) Nearshore Rockfish Complex North of 46°16′ N lat. (Washington): Black and yellow rockfish, S. chrysomelas; blue rockfish, S. mystinus; brown rockfish, S. auriculatus; calico rockfish, S. dalli; China rockfish, S. nebulosus; copper rockfish, S. caurinus; deacon rockfish, S. diaconus, gopher rockfish, S. carnatus; grass rockfish, S. rastrelliger; kelp rockfish, S. atrovirens; olive rockfish, S. serranoides; quillback rockfish, S. maliger; treefish, S. serriceps.

(B) Nearshore Rockfish Complex between 46°16′ N lat. and 42° N lat. (Oregon): Black and yellow rockfish, S. chrysomelas; brown rockfish, S. auriculatus; calico rockfish, S. dalli; China rockfish, S. nebulosus; copper rockfish, S. caurinus; gopher rockfish, S. carnatus; grass rockfish, S. rastrelliger; kelp rockfish, S. atrovirens; olive rockfish, S. serranoides; quillback rockfish, S. maliger; treefish, S. serriceps.

(C) Black/blue/deacon Rockfish Complex between 46°16′ N lat. and 42° N lat. (Oregon): Black rockfish, S. melanops, blue rockfish, S. mystinus, and deacon rockfish, S. diaconus.

(D) Nearshore Rockfish Complex between 42° N lat. and 40°10′ N lat. (northern California): Black and yellow rockfish, S. chrysomelas; blue rockfish, S. mystinus; brown rockfish, S. auriculatus; calico rockfish, S. dalli; China rockfish, S. nebulosus; copper rockfish, S. caurinus; deacon rockfish, S. diaconus, gopher rockfish, S. carnatus; grass rockfish, S. rastrelliger; kelp rockfish, S. atrovirens; olive rockfish, S. serranoides; treefish, S. serriceps.

(E) Nearshore Rockfish Complex South of 40°10′ N lat. (Southern California): Nearshore rockfish are divided into three management categories:

(1) Shallow nearshore rockfish consists of black and yellow rockfish, S. chrysomelas; China rockfish, S. nebulosus; gopher rockfish, S. carnatus; grass rockfish, S. rastrelliger; kelp rockfish, S. atrovirens.

(2) Deeper nearshore rockfish consists of black rockfish, S. melanops; blue rockfish, S. mystinus; brown rockfish, S. auriculatus; calico rockfish, S. dalli; copper rockfish, S. caurinus; deacon rockfish, S. diaconus; olive rockfish, S. serranoides; treefish, S. serriceps.

(3) California scorpionfish, Scorpaena guttata.

(ii) Shelf rockfish includes bocaccio, Sebastes paucispinis; canary rockfish, S. pinniger; chilipepper, S. goodei; cowcod, S. levis; shortbelly rockfish, S. jordani; widow rockfish, S. entomelas; yelloweye rockfish, S. ruberrimus; yellowtail rockfish, S. flavidus and the following shelf rockfish species managed in complexes:

(A) Shelf Rockfish Complex North of 40°10′ N lat.: Bronzespotted rockfish, S. gilli; bocaccio, S. paucispinis; chameleon rockfish, S. phillipsi; chilipepper, S. goodei; cowcod, S. levis; dusky rockfish, S. ciliatus; dwarf-red rockfish, S. rufianus; flag rockfish, S. rubrivinctus; freckled rockfish, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; sunset rockfish, S. crocotulus; swordspine rockfish, S. ensifer; tiger rockfish, S. nigrocinctus; vermilion rockfish, S. miniatus.

(B) Shelf Rockfish Complex South of 40°10′ N lat.: Bronzespotted rockfish, S. gilli; chameleon rockfish, S. phillipsi; dusky rockfish, S. ciliatus; dwarf-red rockfish, S. rufianus; flag rockfish, S. rubrivinctus; freckled rockfish, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; sunset rockfish, S. crocotulus; swordspine rockfish, S. ensifer; tiger rockfish, S. nigrocinctus; vermilion rockfish, S. miniatus; yellowtail rockfish, S. flavidus.

(iii) Slope rockfish includes darkblotched rockfish, Sebastes crameri; Pacific ocean perch, S. alutus; splitnose rockfish, S. diploproa; and the following slope rockfish species managed in complexes:

(A) Slope Rockfish Complex North of 40°10′ N lat.: Aurora rockfish, S. aurora; bank rockfish, S. rufus; blackgill rockfish, S. melanostomus; blackspotted rockfish, S. melanostictus; redbanded rockfish, S. babcocki; rougheye rockfish, S. aleutianus; sharpchin rockfish, S. zacentrus; shortraker rockfish, S. borealis; splitnose rockfish, S. diploproa; yellowmouth rockfish, S. reedi.

(B) Slope Rockfish Complex South of 40°10′ N lat.: Aurora rockfish, S. aurora; bank rockfish, S. rufus; blackgill rockfish, S. melanostomus; blackspotted rockfish, S. melanostictus; Pacific ocean perch, S. alutus; redbanded rockfish, S. babcocki; rougheye rockfish, S. aleutianus; sharpchin rockfish, S. zacentrus; shortraker rockfish, S. borealis; yellowmouth rockfish, S. reedi.

* * * * *

Open access fishery * * *

(1) Directed open access fishery means that a fishing vessel is target fishing (defined at § 660.11) for groundfish and is only declared into a directed open access groundfish gear type or sector as defined in § 660.13(d)(4)(iv)(A). In addition to the requirements in subpart F of this part, fishing vessels participating in the directed open access fishery must be registered to a directed open access permit described at § 660.25(i) and are also subject to the non-trawl logbook requirement at § 660.13(a)(3).

(2) Incidental open access fishery means that a fishing vessel is retaining groundfish incidentally to a non-groundfish target species (see “Incidental catch or incidental species”).

* * * * *

5. Amend § 660.12 by adding paragraph (a)(22) to read as follows:

§ 660.12 General groundfish prohibitions.

* * * * *

(a) * * *

(22) Take and retain, possess, or land groundfish in the directed open access fishery without having a valid directed open access permit for the vessel.

* * * * *

6. Amend § 660.13 by:

a. Revising paragraphs (a)(2)(ii) and (a)(3)(ii)(A) and (B);

b. Adding paragraph (a)(3)(iii);

c. Removing paragraph (a)(4); and

d. Revising paragraphs (d)(3), (d)(4)(iv) introductory text, and (d)(4)(iv)(A)(21), (23), and (27) through (29).

The revisions and addition read as follows:

§ 660.13 Recordkeeping and reporting.

* * * * *

(a) * * *

(2) * * *

(ii) The limited entry fixed gear trip limit fisheries subject to the trip limits in tables 2b (North) and 2b (South) to subpart E of this part, and primary sablefish fisheries, as defined at § 660.211; and

* * * * *

(3) * * *

(ii) * * *

(A) Setting gear. Logbook entries for setting gear, including vessel information, gear specifications, set date/time/location, must be completed within 2 hours of setting each piece of string or gear. The authorized representative of each vessel may record or document this information in a format outside of the electronic logbook application (e.g., waterproof paper). All logbook information whether recorded inside or outside of the electronic application must be available for immediate review by at-sea authorized law enforcement personnel.

(B) Retrieving gear. Logbook entries for retrieving gear, including date/time recovered and catch/discard information, must be completed within 4 hours of retrieving each piece of string or gear. The authorized representative of each vessel may record or document this information in a format outside of the electronic logbook application (e.g., waterproof paper). All logbook information whether recorded inside or outside of the electronic application must be available for immediate review by at-sea authorized law enforcement personnel.

* * * * *

(iii) If no fish are retained or discarded on a fishing trip, then a non-trawl logbook submission is not required for that fishing trip.

* * * * *

(d) * * *

(3) Declaration reports for open access vessels using non-trawl gear (all types of open access gear other than non-groundfish trawl gear). The operator of any vessel that is not registered to a limited entry permit or is registered to a directed open access permit, must provide NMFS with a declaration report, as specified at paragraph (d)(4)(iv) of this section, before the vessel leaves port on a trip in which the vessel is used to take and retain or possess groundfish in the EEZ or land groundfish taken in the EEZ.

(4) * * *

(iv) Declaration reports will include: The vessel name and/or identification number, gear type, and monitoring type where applicable, (as defined in paragraph (d)(4)(iv)(A) of this section). Upon receipt of a declaration report, NMFS will provide a confirmation code or receipt to confirm that a valid declaration report was received for the vessel. Retention of the confirmation code or receipt to verify that a valid declaration report was filed and the declaration requirement was met is the responsibility of the vessel owner or operator. Vessels using non-trawl gear may declare more than one gear type, with the exception of vessels participating in the Shorebased IFQ Program (i.e., gear switching) and those vessels declaring to fish inside the Non-Trawl RCA with non-bottom contact stationary vertical jig gear or groundfish troll gear (i.e., if one of these declarations is used, no other declaration may be made on that fishing trip). For the purpose of the directed open access permit defined at § 660.65, declaration codes for the directed open access fishery include codes 33 through 37. Vessels using trawl gear may only declare one of the trawl gear types listed in paragraph (d)(4)(iv)(A) of this section on any trip and may not declare non-trawl gear on the same trip in which trawl gear is declared.

(A) * * *

(21) Directed open access bottom contact hook-and-line gear for groundfish (e.g., bottom longline, commercial vertical hook-and-line, rod and reel, dinglebar) (declaration code 33);

* * * * *

(23) Directed open access groundfish trap or pot gear (declaration code 34);

* * * * *

(27) Directed open access non-bottom contact hook and line gear for groundfish (e.g., troll, jig gear, rod & reel gear) (outside the Non-Trawl RCA only) (declaration code 35);

(28) Directed open access non-bottom contact stationary vertical jig gear (allowed inside or outside the Non-Trawl RCA) (declaration code 36);

(29) Directed open access non-bottom contact troll gear (allowed inside or outside the Non-Trawl RCA) (declaration code 37);

* * * * *

7. Amend § 660.14 by revising paragraph (d)(4)(iii) to read as follows:

§ 660.14 Vessel Monitoring System (VMS) requirements.

* * * * *

(d) * * *

(4) * * *

(iii) Permit exemption. If a limited entry permit had a change in vessel registration so that it is no longer registered to the vessel (for the purposes of this section, this includes permits placed into “unidentified” status); or if a directed open access permit has not yet been renewed, NMFS may exempt the vessel from VMS requirements providing the vessel is not used in a fishery requiring VMS off the States of Washington, Oregon, or California (0-200 nm (5.6-370.4 km) offshore) for the remainder of the fishing year.

* * * * *

8. Amend § 660.25 by adding paragraph (i) to read as follows:

§ 660.25 Permits.

* * * * *

(i) Directed open access permit—(1) Permit information. This section applies to vessels that take and retain, possess, or land groundfish in the West Coast groundfish directed open access fishery, as defined in § 660.11 under “Open Access Fishery”. Starting on March 1, 2025, no person shall take and retain, possess, or land groundfish as part of the directed open access fishery, unless SFD has issued them a permit valid for the groundfish directed open access fishery.

(i) Validity. The following section applies to vessel for permits under this paragraph (i):

(A) A permit issued under this paragraph (i) is valid only for the vessel for which it is registered.

(B) A permit issued under this paragraph (i) not registered for use with a particular vessel is not valid.

(C) Only a person eligible to own a documented vessel under the terms of 46 U.S.C. 12103 may be issued or may hold a directed open access vessel permit.

(D) No individual may alter, erase, mutilate, or forge any permit or document issued under this section. Any such permit or document that is intentionally altered, erased, mutilated, or forged is invalid.

(ii) Transferability. Permits are not transferable. A permit issued under this paragraph (i) is valid only for the vessel for which it is registered. A change in ownership, documentation, or name of the registered vessel, or transfer of the ownership of the registered vessel will render the permit invalid.

(A) A vessel owner must contact SFD if the vessel for which the permit is issued is sold, ownership of the vessel is transferred, the vessel is renamed, or any other reason for which the documentation of the vessel is changed as the change may invalidate the current permit.

(B) In the case where a permit is invalidated due to a change in documentation, a new permit application is required. To submit a new application, please complete the process outlined in paragraph (i)(2) of this section.

(iii) Civil Procedures. SFD may suspend, revoke, or modify any permit issued under this section under policies and procedures in title 15 CFR part 904, or other applicable regulations in this chapter.

(2) Applications. A vessel owner who wants to engage in the West Coast groundfish directed open access fishery, as defined in section § 660.11, must apply for the directed open access permit using the application form in paragraph (i)(2)(i) of this section.

(i) Application form. To apply for a directed open access permit, an individual must submit a complete permit application to the SFD West Coast Region through the NOAA Fisheries Pacific Coast Groundfish and Halibut Portal—Log In web page at https://www.webapps.nwfsc.noaa.gov/apex/ifq/f?p=120:LOGIN_DESKTOP.

(ii) Required documentation. A complete application consists of:

(A) An application form that contains valid responses for all required data fields, information, and signatures.

(B) A copy of the current (not expired) U.S. Coast Guard Documentation Form or state registration form for the vessel.

(C) Payment of required fees as required at paragraph (f) of this section.

(D) Additional documentation SFD may require as it deems necessary to make a determination on the application.

(iii) Application review, approval or denial, and appeals—(A) Application review. Applications for groundfish directed open access permits issued under this paragraph (i) must be received a minimum of 15 days before intending to participate in the fishery to allow for processing time.

(B) Approved application. SFD shall issue a vessel permit upon receipt of a completed permit application, including all required information listed in paragraph (i)(2)(ii) of this section, submitted through the Pacific Coast Groundfish and Halibut Portal, and a cleared sanctions check.

(C) Denied application. If the application is denied, SFD will issue an initial administrative decision (IAD) that will explain the denial in writing. SFD may decline to act on a permit application that is incomplete, or if the vessel or vessel owner is subject to sanction provisions of the Magnuson-Stevens Act at 16 U.S.C. 1858(a) and implementing regulations at 15 CFR part 904, subpart D.

(D) Appeals. In cases where the applicant disagrees with SFD's decision on a permit application, the applicant may file an appeal following the procedures described at paragraph (g) of this section.

(iv) Issuance. Upon review and approval of a directed open access permit application, SFD will issue a permit under this paragraph (i) electronically to the permit owner.

(A) Duration. A permit issued under this paragraph (i) is valid until the first date of renewal, except as provided in this paragraph (i). The date of renewal will be the last day of the vessel owner's birth month, following the year after the permit is issued (e.g., if the birth month is March and the permit is issued on October 3, 2026, the permit will remain valid through March 31, 2027). The permit owner is responsible for renewing their directed open access permit. Any permit not renewed by the renewal date will expire and is no longer valid.

(1) For permits issued in 2025, the date of renewal will be the last day of the vessel owner's birth month in 2026 (e.g., if the birth month is October and the permit is issued on March 3, 2025, the permit will remain valid through October 31, 2026).

(2) [Reserved]

(B) Display. A copy (electronic or paper) of the permit issued under this subpart must be available for inspection by an authorized officer when the vessel is operating in the groundfish open access fishery, defined at § 660.11.

9. Amend § 660.40 by adding paragraph (b) to read as follows:

§ 660.40 Rebuilding plans.

* * * * *

(b) Quillback rockfish off California. Quillback rockfish off California was declared overfished in 2023. The target year for rebuilding the California quillback rockfish stock to BMSY is 2060. The harvest control rule to be used to rebuild the quillback rockfish stock off California is the ABC Rule (P* 0.45).

10. Amend § 660.50 by revising paragraphs (f) and (g) to read as follows:

§ 660.50 Pacific Coast treaty Indian fisheries.

* * * * *

(f) Pacific Coast treaty Indian fisheries allocations, harvest guidelines, and set-asides. Trip limits for certain species were recommended by the Tribes and the Council and are specified in paragraph (g) of this section.

(1) Arrowtooth flounder. The Tribal harvest guideline is 2,041 mt per year.

(2) Big skate. The Tribal harvest guideline is 15 mt per year.

(3) Black rockfish off Washington. (i) Harvest guidelines for commercial harvests of black rockfish by members of the Pacific Coast Indian Tribes using hook-and-line gear will be established biennially for two subsequent 1-year periods for the areas between the U.S.-Canadian border and Cape Alava (48°09.50′ N lat.) and between Destruction Island (47°40′ N lat.) and Leadbetter Point (46°38.17′ N lat.), in accordance with the procedures for implementing harvest specifications and management measures. Pacific Coast treaty Indians fishing for black rockfish in these areas under these harvest guidelines are subject to the provisions in this section, and not to the restrictions in subparts C through G of this part.

(ii) For the commercial harvest of black rockfish off Washington State, a treaty Indian Tribes' harvest guideline is set at 30,000 lb (13,608 kg) for the area north of Cape Alava, WA (48°09.50′ N lat.) and 10,000 lb (4,536 kg) for the area between Destruction Island, WA (47°40′ N lat.) and Leadbetter Point, WA (46°38.17′ N lat.). This harvest guideline applies and is available to the Pacific Coast treaty Indian Tribes. There are no Tribal harvest restrictions for black rockfish in the area between Cape Alava and Destruction Island.

(4) Canary rockfish. The Tribal harvest guideline is 50 mt per year.

(5) Darkblotched rockfish. The Tribal harvest guideline is 5 mt per year.

(6) Dover sole. The Tribal harvest guideline is 1,497 mt per year.

(7) English sole. The Tribal harvest guideline is 200 mt per year.

(8) Lingcod. The Tribal harvest guideline is 250 mt per year.

(9) Longnose skate. The Tribal harvest guideline is 220 mt per year.

(10) Minor nearshore rockfish. The Tribal harvest guideline is 1.5 mt per year.

(11) Minor shelf rockfish. The Tribal harvest guideline is 30 mt per year.

(12) Minor slope rockfish. The Tribal harvest guideline is 36 mt per year.

(13) Other flatfish. The Tribal harvest guideline is 60 mt per year.

(14) Pacific cod. The Tribal harvest guideline is 500 mt per year.

(15) Pacific ocean perch. The Tribal harvest guideline is 130 mt per year.

(16) Pacific spiny dogfish. The Tribal harvest guideline is 275 mt per year.

(17) Pacific whiting. The Tribal whiting allocation will be announced annually in conjunction with the Total Allowable Catch (TAC) setting process of the Whiting Act.

(18) Petrale sole. The harvest guideline is 290 mt per year.

(19) Sablefish. (i) The sablefish allocation to Pacific coast treaty Indian Tribes is 10 percent of the sablefish ACL for the area north of 36° N lat. This allocation represents the total amount available to the treaty Indian fisheries before deductions for discard mortality.

(ii) The Tribal allocation is 2,869 mt in 2025 and 2,724 mt in 2026. This allocation is, for each year, 10 percent of the Monterey through Vancouver area (North of 36° N lat.) ACL, including estimated discard mortality.

(20) Starry flounder. The Tribal harvest guideline is 2 mt per year.

(21) Thornyheads. The Tribal harvest guideline for shortspine thornyhead is 50 mt per year and the Tribal harvest guideline for longspine thornyhead is 30 mt per year.

(22) Washington cabezon/kelp greenling. The Tribal harvest guideline is 2 mt per year.

(23) Widow rockfish. Widow rockfish taken in the directed Tribal midwater trawl fisheries are subject to a catch limit of 200 mt for the entire fleet, per year.

(24) Yelloweye rockfish. The Tribal harvest guideline is 8 mt per year.

(25) Yellowtail rockfish. Yellowtail rockfish taken in the directed Tribal mid-water trawl fisheries are subject to a catch limit of 1,000 mt for the entire fleet, per year.

(g) Pacific coast treaty Indian fisheries management measures. Trip limits for certain species were recommended by the Tribes and the Council and are specified here.

(1) Rockfish. The Tribes will require full retention of all overfished rockfish species and all other marketable rockfish species during treaty fisheries.

(2) Yelloweye rockfish. Subject to a 200-lb (90-kg) trip limit.

(3) Pacific whiting. Tribal whiting processed at-sea by non-Tribal vessels, must be transferred within the Tribal U&A from a member of a Pacific Coast treaty Indian Tribe fishing under this section.

(4) Groundfish without a Tribal allocation. Makah Tribal members may use midwater trawl gear to take and retain groundfish for which there is no Tribal allocation and will be subject to the trip landing and frequency and size limits applicable to the limited entry fishery.

(5) EFH. Measures implemented to minimize adverse impacts to groundfish EFH, as described in § 660.12, do not apply to Tribal fisheries in their U&A fishing areas described at § 660.4, subpart A.

(6) Small footrope trawl gear. Makah Tribal members fishing in the bottom trawl fishery may use only small footrope (less than or equal to 8 inches (20.3 cm)) bottom trawl gear.

* * * * *

11. Amend § 660.55 by revising table 1 to paragraph (c)(1) and paragraph (i)(2) to read as follows:

§ 660.55 Allocations.

* * * * *

(c) * * *

(1) * * *

Table 1 to Paragraph (c)(1)—Allocation Amounts and Percentages for Limited Entry Trawl and Non-Trawl Sectors Specified for FMP Groundfish Stocks and Stock Complexes
Stock or complex | All non-treaty LE trawl sectors (%) | All non-treaty non-trawl sectors (%)
Arrowtooth Flounder | 95 | 5
Chilipepper Rockfish S. of 40°10′ N lat. | 75 | 25
Darkblotched Rockfish | 95 | 5
Dover Sole | 95 | 5
English Sole | 95 | 5
Lingcod N of 40°10′ N lat. | 45 | 55
Longspine Thornyhead N of 34°27′ N lat. | 95 | 5
Pacific Cod | 95 | 5
Pacific Ocean Perch | 95 | 5
Sablefish S of 36° N lat. | 42 | 58
Splitnose Rockfish S. of 40°10′ N lat. | 95 | 5
Starry Flounder | 50 | 50
Yellowtail Rockfish N of 40°10′ N lat. | 88 | 12
Minor Slope Rockfish North of 40°10′ N lat. | 81 | 19
Other Flatfish | 90 | 10

* * * * *

(i) * * *

(2) The fishery harvest guideline for Pacific whiting is allocated among three sectors, as follows: 34 percent for the C/P Co-op Program; 24 percent for the MS Co-op Program; and 42 percent for the Shorebased IFQ Program. No more than 5 percent of the Shorebased IFQ Program allocation may be taken and retained south of 42° N lat. before the start of the primary Pacific whiting season north of 42° N lat. Specific sector allocations for a given calendar year are found in tables 1a through c and 2a through c of this subpart. Set-asides for other species for the at-sea whiting fishery for a given calendar year are established through the biennial specifications process.

* * * * *

12. Amend § 660.60 by revising paragraphs (b)(1), (c) introductory text, (c)(1)(i), (g), (h)(1), (h)(7)(i)(D), and (h)(7)(ii)(A)(2) to read as follows:

§ 660.60 Specifications and management measures.

* * * * *

(b) * * *

(1) Except for Pacific whiting, every biennium, NMFS will implement OFLs, ABCs, and ACLs, if applicable, for each species or species group based on the harvest controls used in the previous biennium (referred to as default harvest control rules) applied to the best available scientific information. The default harvest control rules for each species or species group are listed in the biennial SAFE document. NMFS may implement OFLs, ABCs, and ACLs, if applicable, that vary from the default harvest control rules based on a Council recommendation.

* * * * *

(c) Routine management measures. Catch restrictions that are likely to be adjusted on a biennial, or more frequent, basis may be imposed and announced by a single notification in the Federal Register, if good cause exists under the Administrative Procedure Act (APA) to waive notice and comment, and if they have been designated as routine through the two-meeting process described in the PCGFMP. Routine management measures that may be revised during the fishing year, via this process, are implemented in paragraph (h) of this section, and in subparts C through G of this part, including tables 1a through 1c, and 2a through 2c to subpart C of this part, tables 1a and 1b (North) and tables 1a and 1b (South) of subpart D of this part, tables 2a and 2b (North) and tables 2a and 2b (South) of subpart E of this part, and tables 3a and 3b (North) and tables 3a and 3b (South) of subpart F of this part. Most trip, bag, and size limits, and some Groundfish Conservation Area closures in the groundfish fishery have been designated “routine,” which means they may be changed rapidly after a single Council meeting. Council meetings are held in the months of March, April, June, September, and November. Inseason changes to routine management measures are announced in the Federal Register pursuant to the requirements of the APA. Changes to trip limits are effective at the times stated in the Federal Register. Once a trip limit change is effective, it is illegal to take and retain, possess, or land more fish than allowed under the new trip limit. This means that, unless otherwise announced in the Federal Register, offloading must begin before the time a fishery closes or a more restrictive trip limit takes effect. The following catch restrictions have been designated as routine:

(1) * * *

(i) Trip landing and frequency limits, size limits, all gear. Trip landing and frequency limits have been designated as routine for the following species or species groups: Widow rockfish, canary rockfish, yellowtail rockfish, Pacific ocean perch, yelloweye rockfish, black rockfish, blue/deacon rockfish, splitnose rockfish, blackgill rockfish in the area south of 40°10′ N lat., chilipepper, bocaccio, cowcod, Minor Nearshore Rockfish or shallow and deeper Minor Nearshore Rockfish, shelf or Minor Shelf Rockfish, and Minor Slope Rockfish; Dover sole, sablefish, shortspine thornyheads, and longspine thornyheads; petrale sole, rex sole, arrowtooth flounder, Pacific sanddabs, big skate, and the Other Flatfish complex, which is composed of those species plus any other flatfish species listed at § 660.11; Pacific whiting; lingcod; Pacific cod; Pacific spiny dogfish; longnose skate; cabezon in Oregon and California; and “Other Fish” as defined at § 660.11. In addition to the species and species groups listed above, sub-limits or aggregate limits may be specified, specific to the Shorebased IFQ Program, for the following species: big skate, California skate, California scorpionfish, leopard shark, soupfin shark, finescale codling, Pacific rattail (grenadier), ratfish, kelp greenling, shortbelly rockfish, and cabezon in Washington. Size limits have been designated as routine for sablefish and lingcod. Trip landing and frequency limits and size limits for species with those limits designated as routine may be imposed or adjusted on a biennial or more frequent basis for the purpose of keeping landings within the harvest levels announced by NMFS.

* * * * *

(g) Applicability. These specifications account for fish caught in state ocean waters (0-3 nm offshore) though that fishing activity is governed by the States of Washington, Oregon, and California, respectively. Catch of a stock in State waters is taken off the top of the harvest specifications for the stock in the EEZ (3-200 nm (5.6-370.4 km) offshore).

(h) * * *

(1) Commercial trip limits and recreational bag and boat limits. Commercial trip limits and recreational bag and boat limits defined in tables 1a through 2d of this subpart, and those specified in subparts D through G of this part, including tables 1b (North) and 1b (South) of subpart D of this part, tables 2b (North) and 2b (South) of subpart E of this part, and tables 3b (North) and 3b (South) of subpart F of this part must not be exceeded.

* * * * *

(7) * * *

(i) * * *

(D) Rockfish complexes. Several rockfish species are designated with species-specific limits on one side of the 40°10′ N lat. management line and are included as part of a rockfish complex on the other side of the line. A vessel that takes and retains fish from a rockfish complex (nearshore, shelf, or slope) on both sides of a management line during a single cumulative limit period is subject to the more restrictive cumulative limit for that rockfish complex during that period.

(1) If a vessel takes and retains species from the slope rockfish complex north of 40°10′ N lat., that vessel is also permitted to take and retain, possess or land splitnose rockfish up to its cumulative limit south of 40°10′ N lat., even if splitnose rockfish were a part of the landings from slope rockfish complex taken and retained north of 40°10′ N lat.

(2) If a vessel takes and retains species from the slope rockfish complex south of 40°10′ N lat., that vessel is also permitted to take and retain, possess or land Pacific ocean perch up to its cumulative limit north of 40°10′ N lat., even if Pacific ocean perch were a part of the landings from slope rockfish complex taken and retained south of 40°10′ N lat.

(ii) * * *

(A) * * *

(2) Vessels with a valid limited entry permit endorsed for bottom longline and/or pot gear fishing inside the Non-Trawl RCA with stationary vertical jig gear or groundfish troll gear as defined at § 660.320(b)(6). Vessels fishing with one of these two approved hook-and-line gear configurations may fish up to the limited entry fixed gear trip limits in table 2b (North) and table 2b (South) of subpart E, either inside or outside the Non-Trawl RCA. This provision only applies on fishing trips where the vessel made the appropriate declaration (specified at § 660.13(d)(4)(iv)(A)).

* * * * *

13. Revise § 660.65 to read as follows:

§ 660.65 Groundfish harvest specifications.

Harvest specifications include OFLs, ABCs, and the designation of OYs and ACLs. Management measures necessary to keep catch within the ACL include ACTs, HGs, or quotas for species that need individual management, the allocation of fishery HGs between the trawl and non-trawl segments of the fishery, and the allocation of commercial HGs between the open access and limited entry segments of the fishery. These specifications account for fish caught in state ocean waters (0-3 nm (0-5.6 km) offshore), though that fishing activity is governed by the States of Washington, Oregon, and California respectively. Catch of a stock in State waters is taken off the top of the harvest specifications for the stock in the EEZ (3-200 nm (5.6-370.4 km) offshore). Harvest specifications are provided in tables 1a through 2d of this subpart.

§ 660.70 [Amended]

14. Amend § 660.70 by removing paragraph (u) and redesignating paragraph (v) as paragraph (u).

15. Amend § 660.72 by revising paragraphs (a)(95) through (100) to read as follows:

§ 660.72 Latitude/longitude coordinates defining the 50 fm (91 m) through 75 fm (137 m) depth contours.

* * * * *

(a) * * *

(95) 39°32.47′ N lat., 123°52.25′ W long.;

(96) 39°21.86′ N lat., 123°54.13′ W long.;

(97) 39°8.35′ N lat., 123°49.67′ W long.;

(98) 38°57.50′ N lat., 123°49.42′ W long.;

(99) 38°51.20′ N lat., 123°46.09′ W long.;

(100) 38°29.47′ N lat., 123°20.19′ W long.;

* * * * *

16. Revise tables 1a through 1c to part 660, subpart C to read as follows:

Table 1a to Part 660, Subpart C—2025, Specifications of OFL, ABC, ACL, ACT and Fishery HG (Weights in Metric Tons). Capitalized Stocks Are Rebuilding
Species/stock | Area | OFL | ABC | ACL ᵃ | Fishery HG ᵇ
QUILLBACK ROCKFISH OFF CALIFORNIA | California | 1.52 | 1.3 | 1.3 | 1.2
YELLOWEYE ROCKFISH ᶜ | Coastwide | 105.8 | 87.2 | 55.8 | 41
Arrowtooth Flounder | Coastwide | 16,460 | 11,193 | 11,193 | 9,098
Big Skate | Coastwide | 1,456 | 1,224 | 1,224 | 1,164.6
Black Rockfish | Washington (N of 46°16′ N lat.) | 262 | 244.6 | 244.6 | 226
Black Rockfish | California (S of 42° N lat.) | 250 | 234 | 224 | 222.3
Bocaccio | S of 40°10′ N lat | 1,849 | 1,681 | 1,681 | 1,673.2
Cabezon | California (S of 42° N lat.) | 176 | 162 | 162 | 161.2
California Scorpionfish | S of 34°27′ N lat | 273 | 244 | 244 | 242
Canary Rockfish | Coastwide | 647 | 605 | 572 | 508.4
Chilipepper | S of 40°10′ N lat | 3,128 | 2,815 | 2,815 | 2,788
Cowcod | S of 40°10′ N lat | 111 | 77 | 77 | 66.5
Cowcod | (Conception) | 93 | 66 | 66 |
Cowcod | (Monterey) | 18 | 11 | 11 |
Darkblotched Rockfish | Coastwide | 830 | 754 | 754 | 729.8
Dover Sole | Coastwide | 52,214 | 47,424 | 47,424 | 45,840
English Sole | Coastwide | 11,175 | 8,884 | 8,884 | 8,669.4
Lingcod | N of 40°10′ N lat | 4,237 | 3,631 | 3,631 | 3,349.9
Lingcod | S of 40°10′ N lat | 897 | 768 | 748 | 736.4
Longnose Skate | Coastwide | 1,922 | 1,616 | 1,616 | 1,365.4
Longspine Thornyhead | Coastwide | 4,284 | 2,698 | 2,698 |
Longspine Thornyhead | N of 34°27′ N lat |  |  | 2,050 | 2,000.7
Longspine Thornyhead | S of 34°27′ N lat |  |  | 648 | 646
Pacific Cod | Coastwide | 3,200 | 1,926 | 1,600 | 1,098.6
Pacific Ocean Perch | N of 40°10′ N lat | 4,029 | 3,328 | 3,328 | 3,182.5
Pacific Spiny Dogfish | Coastwide | 1,857 | 1,361 | 1,361 | 1,037.6
Pacific Whiting | Coastwide | (ᵈ) | (ᵈ) | (ᵈ) | (ᵈ)
Petrale Sole | Coastwide | 2,518 | 2,354 | 2,354 | 2,035.5
Sablefish | Coastwide | 39,085 | 36,545 | 36,545 |
Sablefish | N of 36° N lat |  |  | 28,688 | See Table 1c
Sablefish | S of 36° N lat |  |  | 7,857 | 7,829.80
Shortspine Thornyhead ᵉ | Coastwide | 940 | 821 | 815 | 743.3
Splitnose | S of 40°10′ N lat | 1,724 | 1,508 | 1,508 | 1,493.9
Starry Flounder | Coastwide | 652 | 392 | 392 | 375.3
Widow Rockfish | Coastwide | 12,254 | 11,237 | 11,237 | 11,018.7
Yellowtail Rockfish | N of 40°10′ N lat | 6,866 | 6,241 | 6,241 | 5,216.1
Species/Stock Complexes
Blue/Deacon/Black Rockfish | Oregon | 464 | 423 | 423 | 421.7
Cabezon/Kelp Greenling | Washington | 19 | 15 | 15 | 12.2
Cabezon/Kelp Greenling | Oregon | 196 | 177 | 177 | 176.1
Nearshore Rockfish North | N of 40°10′ N lat | 106 | 88 | 88 | 84.8
Nearshore Rockfish South | S of 40°10′ N lat | 1,137 | 934 | 932 | 929.3
Other Fish | Coastwide | 286 | 223 | 223 | 213.2
Other Flatfish | Coastwide | 10,895 | 7,974 | 7,974 | 7,803
Shelf Rockfish North | N of 40°10′ N lat | 1,668.7 | 1,329.7 | 1,329.6 | 1,250.4
Shelf Rockfish South | S of 40°10′ N lat | 1,827.6 | 1,457.7 | 1,457.1 | 1,430.5
Slope Rockfish North | N of 40°10′ N lat | 1,779 | 1,488 | 1,488 | 1,430
Slope Rockfish South | S of 40°10′ N lat | 866 | 693 | 693 | 674
ᵃ Annual catch limits (ACLs), annual catch targets (ACTs) and harvest guidelines (HGs) are specified as total catch values.
ᵇ Fishery HGs means the HG or quota after subtracting Pacific Coast treaty Indian Tribes allocations and projected catch, projected research catch, deductions for fishing mortality in non-groundfish fisheries, and deductions for EFPs from the ACL or ACT. These deductions, as well as any HG sharing agreements between states and/or sectors, are published in the SAFE.
ᶜ Yelloweye rockfish has a non-trawl ACT of 29.6 mt and a non-nearshore ACT of 6.2 mt. The recreational ACTs are: 7.6 mt (Washington), 6.9 mt (Oregon), and 8.9 mt (California).
ᵈ Pacific whiting are assessed annually. The final specifications will be determined consistent with the U.S.-Canada Pacific Whiting Agreement and will be announced in 2025.
ᵉ Shortspine thornyhead has a commercial ACT of 67 mt for north of 34° 27′ N lat.
ᶠ Copper rockfish has a recreational ACT of 15.8 for south of 34° 27′ N lat.

Table 1b to Part 660, Subpart C—2025, Allocations by Species or Species Group
[Weight in metric tons]
Species/stock & complexes | Area | Fishery HG or ACT | Trawl: % | Trawl: mt | Non-trawl: % | Non-trawl: mt
YELLOWEYE ROCKFISH | Coastwide | 41 | 8 | 3.3 | 92 | 37.7
Arrowtooth flounder | Coastwide | 9,098 | 95 | 8,643.1 | 5 | 454.9
Big skate | Coastwide | 1,164.6 | 95 | 1,106.4 | 5 | 58.2
Bocaccio | S of 40°10′ N lat | 1,673.2 | 39 | 652.5 | 61 | 1,020.6
Canary rockfish | Coastwide | 508.4 | 72.3 | 367.6 | 27.7 | 140.8
Chilipepper rockfish | S of 40°10′ N lat | 2,788 | 75 | 2,091 | 25 | 697
Cowcod | S of 40°10′ N lat | 66.5 | 36 | 23.90 | 64 | 42.6
Darkblotched rockfish | Coastwide | 729.8 | 95 | 693.3 | 5 | 36.5
Dover sole | Coastwide | 45,840 | 95 | 43,459.8 | 5 | 2,290.2
English sole | Coastwide | 8,669.4 | 95 | 8,235.9 | 5 | 433.5
Lingcod | N of 40°10′ N lat | 3,349.9 | 45 | 1,507.5 | 55 | 1,842.4
Lingcod | S of 40°10′ N lat | 736.4 | 40 | 294.6 | 60 | 441.8
Longnose skate | Coastwide | 1,365.4 | 90 | 1,228.9 | 10 | 136.5
Longspine thornyhead | N of 34°27′ N lat | 2,000.7 | 95 | 1,900.7 | 5 | 100
Pacific cod | Coastwide | 1,098.6 | 95 | 1,043.7 | 5 | 54.9
Pacific Ocean perch | N of 40°10′ N lat | 3,182.5 | 95 | 3,023.4 | 5 | 159.1
Pacific whiting | Coastwide |  | 100 |  | 0 | 0
Petrale sole | Coastwide | 2,035.5 |  | 2,005.5 |  | 30
Sablefish | N of 36° N lat | 25,729.3 | See Table 1c
Sablefish | S of 36° N lat | 7,829.8 | 42 | 3,288.5 | 58 | 4,541.3
Shortspine thornyhead | Coastwide | 743.3 | 64 | 475.71 | 36 | 267.59
Splitnose rockfish | S of 40°10′ N lat | 1,493.9 | 95 | 1,419.2 | 5 | 74.7
Starry flounder | Coastwide | 375.3 | 50 | 187.7 | 50 | 187.7
Widow rockfish | Coastwide | 11,018.7 |  | 10,718.7 |  | 300
Yellowtail rockfish | N of 40°10′ N lat | 5,216.1 | 88 | 4,590.2 | 12 | 625.9
Shelf rockfish north | N of 40°10′ N lat | 1,250.4 | 60.2 | 760.8 | 39.8 | 503
Shelf rockfish south | S of 40°10′ N lat | 1,430.5 | 12.2 | 174.5 | 87.8 | 1,256
Slope rockfish north | N of 40°10′ N lat | 1,430 | 81 | 1,158.3 | 19 | 271.7
Slope rockfish south | S of 40°10′ N lat | 674 | 63 | 424.6 | 37 | 249.4
Other flatfish | Coastwide | 7,803 | 90 | 7,022.7 | 10 | 780.3

Table 1c to Part 660, Subpart C—Sablefish North of 36° N Lat. Allocations, 2025
[Weight in metric tons]
| Percent | Allocation (mt)
Non-Tribal Commercial HG ᵃ |  | 25,729.3
LE Share | 90.6 | 23,310.7
LE Trawl | 58 | 13,520.2
LEFG | 42 | 9,791.9
Primary | 85 | 8,323.1
Trip limit | 15 | 1,468.8
OA Share | 9.4 | 2,418.6
ᵃ Off-the-top deductions from the ACL that result in the HG are in the SAFE.

17. Revise tables 2a through 2c to part 660, subpart C, to read as follows:

Table 2a to Part 660, Subpart C—2026, and Beyond, Specifications of OFL, ABC, ACL, ACT, and Fishery HG (Weights in Metric Tons). Capitalized Stocks Are Rebuilding
Species/stock | Area | OFL | ABC | ACL ᵃ | Fishery HG ᵇ
QUILLBACK ROCKFISH OFF CALIFORNIA | California | 1.77 | 1.5 | 1.5 | 1.4
YELLOWEYE ROCKFISH ᶜ | Coastwide | 108.3 | 88.5 | 56.6 | 41.8
Arrowtooth Flounder | Coastwide | 13,833 | 9,227 | 9,227 | 7,132
Big Skate | Coastwide | 1,426 | 1,188 | 1,188 | 1,128.6
Black Rockfish | Washington (N of 46°16′ N lat.) | 259 | 241 | 241 | 226.6
Black Rockfish | California (S of 42° N lat.) | 265 | 247 | 236 | 234.4
Bocaccio | S of 40°10′ N lat | 1,846 | 1,668 | 1,668 | 1,660.2
Cabezon | California (S of 42° N lat.) | 170 | 155 | 155 | 154.5
California Scorpionfish | S of 34°27′ N lat | 267 | 238 | 238 | 236
Canary Rockfish | Coastwide | 655 | 609 | 573 | 509.6
Chilipepper Rockfish | S of 40°10′ N lat | 2,949 | 2,643 | 2,643 | 2,615.2
Cowcod | S of 40°10′ N lat | 111 | 75 | 75 | 65.2
Cowcod | (Conception) | 92 | 64 | 64 |
Cowcod | (Monterey) | 19 | 11 | 11 |
Darkblotched Rockfish | Coastwide | 810 | 732 | 732 | 707.8
Dover Sole | Coastwide | 46,049 | 42,457 | 42,457 | 40,873
English Sole | Coastwide | 11,192 | 8,819 | 8,819 | 8,604.4
Lingcod | N of 40°10′ N lat | 4,163 | 3,534 | 3,534 | 3,252.9
Lingcod | S of 40°10′ N lat | 937 | 795 | 773 | 761.5
Longnose Skate | Coastwide | 1,895 | 1,579 | 1,579 | 1,328.4
Longspine Thornyhead | Coastwide | 4,166 | 2,575 | 2,575 |
Longspine Thornyhead | N of 34°27′ N lat |  |  | 1,957 | 1,907.3
Longspine Thornyhead | S of 34°27′ N lat |  |  | 618 | 616.5
Pacific Cod | Coastwide | 3,200 | 1,926 | 1,600 | 1,098.6
Pacific Ocean Perch | N of 40°10′ N lat | 3,937 | 3,220 | 3,220 | 3,074.5
Pacific Spiny Dogfish | Coastwide | 1,833 | 1,318 | 1,318 | 994.2
Pacific Whiting | Coastwide | (ᵈ) | (ᵈ) | (ᵈ) | (ᵈ)
Petrale Sole | Coastwide | 2,424 | 2,255 | 2,238 | 1,919.5
Sablefish | Coastwide | 37,310 | 34,699 | 34,699 |
Sablefish | N of 36° N lat |  |  | 27,238 | See Table 2c
Sablefish | S of 36° N lat |  |  | 7,460 | 7,432.9
Shortspine Thornyhead ᵉ | Coastwide | 961 | 831 | 825 | 752.7
Splitnose Rockfish | S of 40°10′ N lat | 1,686 | 1,469 | 1,469 | 1,454.9
Starry Flounder | Coastwide | 652 | 392 | 392 | 375.3
Widow Rockfish | Coastwide | 11,382 | 10,392 | 10,392 | 10,173.7
Yellowtail Rockfish | N of 40°10′ N lat | 6,662 | 6,023 | 6,023 | 4,997.5
Species/stock Complexes
Blue/Deacon/Black Rockfish | Oregon | 472 | 428 | 428 | 426.5
Cabezon/Kelp Greenling | Washington | 19 | 15 | 15 | 12.1
Cabezon/Kelp Greenling | Oregon | 194 | 174 | 174 | 173.6
Nearshore Rockfish North | N of 40°10′ N lat | 105 | 86 | 86 | 83
Nearshore Rockfish South ᶠ | S of 40°10′ N lat | 1,143 | 933 | 931 | 928.1
Other Fish | Coastwide | 286 | 223 | 223 | 212.7
Other Flatfish | Coastwide | 9,988 | 7,144 | 7,144 | 6,972.6
Shelf Rockfish North | N of 40°10′ N lat | 1,654.5 | 1,316.3 | 1,316.2 | 1,263.8
Shelf Rockfish South | S of 40°10′ N lat | 1,827.1 | 1,455.4 | 1,454.9 | 1,428.4
Slope Rockfish North | N of 40°10′ N lat | 1,754 | 1,460 | 1,460 | 1,402.2
Slope Rockfish South | S of 40°10′ N lat | 865 | 690 | 690 | 671
ᵃ Annual catch limits (ACLs), annual catch targets (ACTs) and harvest guidelines (HGs) are specified as total catch values.
ᵇ Fishery HGs means the HG or quota after subtracting Pacific Coast treaty Indian Tribes allocations and projected catch, projected research catch, deductions for fishing mortality in non-groundfish fisheries, and deductions for EFPs from the ACL or ACT. These deductions, as well as any HG sharing agreements between states and/or sectors, are published in the SAFE.
ᶜ Yelloweye rockfish has a non-trawl ACT of 30.2 mt and a non-nearshore ACT of 6.3 mt. The recreational ACTs are: 7.7 mt (Washington), 7.0 mt (Oregon), and 9.1 mt (California).
ᵈ Pacific whiting are assessed annually. The final specifications will be determined consistent with the U.S.-Canada Pacific Whiting Agreement and will be announced in 2026.
ᵉ Shortspine thornyhead has a commercial ACT of 55 mt for north of 34° 27′ N lat.
ᶠ Copper rockfish has a recreational ACT of 18.0 for south of 34° 27′ N lat.

Table 2b to Part 660, Subpart C—2026, and Beyond, Allocations by Species or Species Group
Species/stock & complexes | Area | Fishery HG or ACT | Trawl: % | Trawl: mt | Non-trawl: % | Non-trawl: mt
YELLOWEYE ROCKFISH | Coastwide | 41.8 | 8 | 3.3 | 92 | 38.5
Arrowtooth flounder | Coastwide | 7,132 | 95 | 6,775.4 | 5 | 356.6
Big skate | Coastwide | 1,128.6 | 95 | 1,072.2 | 5 | 56.4
Bocaccio | S of 40°10′ N lat | 1,660.2 | 39 | 647.5 | 61 | 1,012.7
Canary rockfish | Coastwide | 509.6 | 72.3 | 368.4 | 27.7 | 141.2
Chilipepper rockfish | S of 40°10′ N lat | 2,615.2 | 75 | 1,961.4 | 25 | 653.8
Cowcod | S of 40°10′ N lat | 65.2 | 36 | 23.5 | 64 | 41.7
Darkblotched rockfish | Coastwide | 707.8 | 95 | 672.4 | 5 | 35.4
Dover sole | Coastwide | 40,873 | 95 | 38,829.4 | 5 | 2,043.7
English sole | Coastwide | 8,604.4 | 95 | 8,174.2 | 5 | 430.2
Lingcod | N of 40°10′ N lat | 3,252.9 | 45 | 1,463.8 | 55 | 1,789.1
Lingcod | S of 40°10′ N lat | 761.5 | 40 | 304.6 | 60 | 456.9
Longnose skate | Coastwide | 1,328.4 | 90 | 1,195.6 | 10 | 132.8
Longspine thornyhead | N of 34°27′ N lat | 1,907.3 | 95 | 1,811.9 | 5 | 95.4
Pacific cod | Coastwide | 1,098.6 | 95 | 1,043.7 | 5 | 54.9
Pacific Ocean perch | N of 40°10′ N lat | 3,074.5 | 95 | 2,920.8 | 5 | 153.7
Pacific whiting | Coastwide |  | 100 | 0.0 |  | 0
Petrale sole | Coastwide | 1,919.5 |  | 1,889.5 |  | 30
Sablefish | N of 36° N lat | 24,425.1 | See Table 2c
Sablefish | S of 36° N lat | 7,432.9 | 42 | 3,121.8 | 58 | 4,311.1
Shortspine thornyhead | Coastwide | 752.7 | 71 | 534.4 | 29 | 218.3
Splitnose rockfish | S of 40°10′ N lat | 1,454.9 | 95 | 1,382.2 | 5 | 72.7
Starry flounder | Coastwide | 375.3 | 50 | 187.7 | 50 | 187.7
Widow rockfish | Coastwide | 10,173.7 |  | 9,873.7 |  | 300
Yellowtail rockfish | N of 40°10′ N lat | 4,997.5 | 88 | 4,397.8 | 12 | 599.7
Shelf rockfish north | N of 40°10° N lat | 1,263.8 | 60.2 | 760.8 | 39.8 | 503
Shelf rockfish south | S of 40°10′ N lat | 1,428.4 | 12.2 | 174.3 | 87.8 | 1,254.1
Slope rockfish north | N of 40°10′ N lat | 1,402.2 | 81 | 1,135.8 | 19 | 266.4
Slope rockfish south | S of 40°10′ N lat | 671 | 63 | 422.7 | 37 | 248.3
Other flatfish | Coastwide | 6,972.6 | 90 | 6,275.3 | 10 | 697.3

Table 2c to Part 660, Subpart C—Sablefish North of 36° N Lat. Allocations, 2026 and Beyond
[Weights in metric tons]
| Percent | Allocation (mt)
Non-Tribal Commercial HG ᵃ |  | 24,425.1
LE Share | 90.6 | 22,129.1
LE Trawl | 58 | 12,834.9
LEFG | 42 | 9,294
Primary | 85 | 7,899.9
Trip limit | 15 | 1,394.1
OA Share | 9.4 | 2,296
ᵃ Off-the-top deductions from the ACL that result in the HG are in the SAFE.

18. Amend § 660.111 by revising the definition of “Block area closures or BACs” to read as follows:

§ 660.111 Trawl fishery—definitions.

* * * * *

Block area closures or BACs are a type of groundfish conservation area, defined at § 660.11, bounded on the north and south by commonly used geographic coordinates, defined at § 660.11, and on the east and west by the EEZ, and boundary lines approximating depth contours, defined with latitude and longitude coordinates at §§ 660.71 through 660.74 (10 fm (18 m) through 250 fm (457 m)), and § 660.76 (700 fm (1,280 m)). BACs may be implemented or modified as routine management measures, per regulations at § 660.60(c). BACs may be implemented in the EEZ seaward of Washington, Oregon, and California for vessels using limited entry bottom trawl and/or midwater trawl gear. BACs may be implemented within Tribal Usual and Accustomed fishing areas but may only apply to non-Tribal vessels. BACs may close areas to specific trawl gear types (e.g., closed for midwater trawl, bottom trawl, or bottom trawl unless using selective flatfish trawl) and/or specific programs within the trawl fishery (e.g., Pacific whiting fishery or MS Co-op Program). BACs may vary in their geographic boundaries and duration. Their geographic boundaries, applicable gear type(s) and/or specific trawl fishery program, and effective dates will be announced in the Federal Register. BACs may have a specific termination date as described in the Federal Register or may be in effect until modified. BACs that are in effect until modified by Council recommendation and subsequent NMFS action are set out in tables 1a (North) and 1a (South) of this subpart.

* * * * *

19. Amend § 660.130 by:

a. Revising paragraphs (a), (c) introductory text, and (c)(4) introductory text;

c. Removing paragraph (e)(2);

d. Redesignating paragraphs (e)(3) through (8) as (e)(2) through (7); and

e. Revising newly redesignated paragraph (e)(3) introductory text.

The revisions read as follows:

§ 660.130 Trawl fishery—management measures.

(a) General. This section applies to the limited entry trawl fishery. Most species taken in the limited entry trawl fishery will be managed with quotas (see § 660.140), allocations or set-asides (see § 660.150 or § 660.160), or cumulative trip limits (see trip limits in tables 1b (North) and 1b (South) of this subpart), size limits (see § 660.60(h)(5)), seasons (see Pacific whiting at § 660.131(b)), gear restrictions (see paragraphs (b) and (c) of this section) and closed areas (see paragraphs (c) and (e) of this section and §§ 660.70 through 660.79). The limited entry trawl fishery has gear requirements and harvest limits that differ by the type of groundfish trawl gear on board and the area fished. Groundfish vessels operating south of Point Conception must adhere to CCA restrictions (see paragraph (e)(1) of this section and § 660.70). The trip limits in tables 1b (North) and 1b (South) of this subpart apply to vessels participating in the limited entry trawl fishery and may not be exceeded. Federal commercial groundfish regulations are not intended to supersede any more restrictive state commercial groundfish regulations relating to federally managed groundfish.

* * * * *

(c) Restrictions by limited entry trawl gear type. Management measures may vary depending on the type of trawl gear (i.e., large footrope, small footrope, selective flatfish, or midwater trawl gear) used and/or on board a vessel during a fishing trip, cumulative limit period, and the area fished. Trawl nets may be used on and off the seabed. For some species or species groups, tables 1b (North) and 1b (South) of this subpart provide trip limits that are specific to different types of trawl gear: Large footrope, small footrope (including selective flatfish), selective flatfish, midwater, and multiple types. If tables 1a (North), 1b (North), 1a (South), and 1b (South) of this subpart provide gear specific limits or closed areas for a particular species or species group, prohibitions at §§ 660.12 and 660.112(a)(5) apply. Additional conservation areas applicable to vessels registered to limited entry permits with trawl endorsements are listed at paragraph (e) of this section.

* * * * *

(4) More than one type of trawl gear on board. The trip limits in table 1b (North) or 1b (South) of this subpart must not be exceeded. A vessel may not have both groundfish trawl gear and non-groundfish trawl gear onboard simultaneously. A vessel may have more than one type of limited entry trawl gear on board (midwater, large or small footrope, including selective flatfish trawl), either simultaneously or successively, during a cumulative limit period except between 42° N lat. and 40°10′ N lat. as described in this section. If a vessel fishes both north and south of 40°10′ N lat. with any type of small or large footrope gear onboard the vessel at any time during the cumulative limit period, the most restrictive cumulative limit associated with the gear on board would apply for that trip and all catch would be counted toward that cumulative limit (see crossover provisions at § 660.60(h)(7)). When operating in an applicable GCA, all trawl gear must be stowed, consistent with prohibitions at § 660.112(a)(5)(i), unless authorized in this section.

* * * * *

(e) * * *

(3) Trawl RCA. This GCA is off the coast of Washington, between the US/Canada border and 46°16′ N lat. Boundaries for the trawl RCA applicable to groundfish trawl vessels throughout the year are provided in the header to table 1a (North) of this subpart and may be modified by NMFS inseason pursuant to § 660.60(c). Prohibitions at § 660.112(a)(5) do not apply under the following conditions and when the vessel has a valid declaration for the allowed fishing:

* * * * *

20. Amend § 660.131 by revising paragraphs (b)(3) introductory text and (g)(2) to read as follows:

§ 660.131 Pacific whiting fishery management measures.

* * * * *

(b) * * *

(3) Pacific whiting trip limits. For Shorebased IFQ Program vessels targeting Pacific whiting outside the primary season, the “per trip” limit for whiting is announced in table 1b of this subpart. The per-trip limit is a routine management measure under § 660.60(c). This trip limit includes any whiting caught shoreward of 100 fm (183 m) in the Eureka management area. The per-trip limit for other groundfish species are announced in tables 1b (North) and 1b (South) of this subpart and apply as follows:

* * * * *

(g) * * *

(2) The amount of whole whiting on board does not exceed the trip limit (if any) allowed under § 660.60(c) or table 1b (North) or 1b (South) in subpart D.

* * * * *

21. Amend § 660.140 by revising table 1 to paragraph (d)(1)(ii)(D) and paragraph (g)(1) to read as follows:

§ 660.140 Shorebased IFQ Program.

* * * * *

(d) * * *

(1) * * *

(ii) * * *

(D) * * *

Table 1 to Paragraph (d)(1)(ii)(D)—Shorebased Trawl Allocations for 2025 and 2026
IFQ species | Area | 2025 Shorebased trawl allocation (mt) | 2026 Shorebased trawl allocation (mt)
YELLOWEYE ROCKFISH | Coastwide | 3.3 | 3.3
Arrowtooth flounder | Coastwide | 8,543 | 6,765
Bocaccio | South of 40°10′ N lat | 653 | 648
Canary rockfish | Coastwide | 348 | 348
Chilipepper rockfish | South of 40°10′ N lat | 2,091 | 1,961
Cowcod | South of 40°10′ N lat | 24 | 24
Darkblotched rockfish | Coastwide | 593 | 572
Dover sole | Coastwide | 43,538 | 38,819
English sole | Coastwide | 8,236 | 8,174
Lingcod | North of 40°10′ N lat | 1,493 | 1,449
Lingcod | South of 40°10′ N lat | 295 | 305
Longspine thornyhead | North of 34°27′ N lat | 1,901 | 1,812
Pacific cod | Coastwide | 1,044 | 1,044
Pacific ocean perch | North of 40°10′ N lat | 2,723 | 2,621
Pacific whiting ᵃ | Coastwide | TBD | TBD
Petrale sole | Coastwide | 2,001 | 1,885
Sablefish | North of 36° N lat | 13,091 | 12,406
Sablefish | South of 36° N lat | 3,289 | 3,122
Shortspine thornyhead | Coastwide | 406 | 464
Splitnose rockfish | South of 40°10′ N lat | 1,419 | 1,382
Starry flounder | Coastwide | 188 | 188
Widow rockfish | Coastwide | 10,419 | 9,574
Yellowtail rockfish | North of 40°10′ N lat | 4,230 | 4,038
Other Flatfish complex | Coastwide | 6,923 | 6,175
Shelf Rockfish complex | North of 40°10′ N lat | 726 | 718
Shelf Rockfish complex | South of 40°10′ N lat | 175 | 175
Slope Rockfish complex | North of 40°10′ N lat | 858 | 836
Slope Rockfish complex | South of 40°10′ N lat | 425 | 423
ᵃ Managed through an international process. These allocations will be updated when announced.

* * * * *

(g) * * *

(1) General. Shorebased IFQ Program vessels may discard IFQ species/species groups, provided such discards are accounted for and deducted from QP in the vessel account. The discard mortality for those species with discard mortality rates must be accounted for and applied to QP in the vessel account. With the exception of vessels on a declared Pacific whiting IFQ trip and engaged in maximized retention, and vessels fishing under a valid EM Authorization in accordance with § 660.604, prohibited and protected species (except short-tailed albatross as directed by § 660.21(c)(1)(v)) must be discarded at sea. Pacific halibut must be discarded as soon as practicable and the discard mortality must be accounted for and deducted from IBQ pounds in the vessel account. Non-IFQ species and non-groundfish species may be discarded at sea, unless otherwise required by EM Program requirements at § 660.604. The sorting of catch, the weighing and discarding of any IBQ and IFQ species, and the retention of IFQ species must be monitored by the observer or EM system.

* * * * *

Table 1 (North) to Part 660, Subpart D—[Removed]

22. Remove table 1 (North) to part 660, subpart D.

Table 1 (South) to Part 660, Subpart D—[Removed]

23. Remove table 1 (South) to part 660, subpart D.

24. Add tables 1a (North), 1b (North), 1a (South), and 1b (South) to part 660, subpart D to read as follows:

Table 1a (North) to Part 660, Subpart D—Limited Entry Trawl Rockfish Conservation Areas for North of 40°10′ N Lat
Latitude | Boundary
North of 46°16′ N lat | 100 fm line-150 fm line.
46°16′ N lat.-40°10′ N lat | BACs may be implemented and will be announced in the Federal Register.
Note 1 to table 1a (North): The Trawl RCA is an area closed to fishing with groundfish trawl gear, as defined at § 660.11. Trawl RCA boundaries apply in the EEZ only; see appropriate state regulations for state closures. Trawl RCA boundaries or Block Area Closures (BACs) may be revised or implemented via inseason action; therefore, users should refer back to this table throughout the year. Vessels fishing groundfish trawl quota pounds with groundfish non-trawl gears, under gear switching provisions at § 660.140, are subject to the limited entry fixed gear Non-Trawl RCA, as described in tables 2a (North) and 2a (South) to part 660, subpart E.

Table 1b (North) to Part 660, Subpart D—Landing Allowances for Non-IFQ Species and Pacific Whiting North of 40°10′ N Lat.
Species | Trip limit
Big skate | Unlimited.
Cabezon (California) | 50 lb/month.
Longnose skate | Unlimited.
Nearshore rockfish complex, Washington black rockfish and Oregon black/blue/deacon rockfish | 300 lb/month.
Oregon cabezon/kelp greenling complex | 50 lb/month.
Other fish | Unlimited.
Pacific Spiny Dogfish | 60,000 lb/month.
Pacific whiting—Midwater Trawl | Before the primary whiting season: CLOSED. During the primary whiting season: mid-water trawl permitted in the RCA. See § 660.131 for season and trip limit details.
| After the primary whiting season: CLOSED.
Pacific whiting—Large & Small Footrope Gear | Before the primary whiting season: 20,000 lb/trip. During the primary whiting season: 10,000 lb/trip.
| After the primary whiting season: 10,000 lb/trip.
Pacific whiting—Eureka Management Area | No more than 10,000 lb of whiting may be taken and retained, possessed, or landed by a vessel that, at any time during the fishing trip, fished in the fishery management area shoreward of 100 fm contour (see § 660.131(d)).
Note 1 to table 1b (North): This table describes incidental landing allowances for vessels registered to a Federal limited entry trawl permit. Trip limits apply in the EEZ only; see appropriate state regulations for state trip limits. Trip limits are effective year-round unless otherwise specified for different cumulative periods (defined at § 660.11 under “Trip limits”). Trip limits are effective from the U.S.-Canada border to 40°10′ N lat. unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms. See provisions at § 660.130 for gear restrictions and requirements by area. Vessels fishing groundfish trawl quota pounds with groundfish non-trawl gears, under gear switching provisions at § 660.140, are subject to the limited entry groundfish trawl fishery landing allowances in this table, regardless of the type of fishing gear used.

Table 1a (South) to Part 660, Subpart D—Limited Entry Trawl Rockfish Conservation Areas for South of 40°10′ N Lat.
Latitude | Boundary
South of 40°10′ N lat.: | BACs may be implemented and will be announced in the Federal Register.
Note 1 to table 1a (South): The Trawl RCA is an area closed to fishing with groundfish trawl gear, as defined at § 660.11. Trawl RCA boundaries apply in the EEZ only; see appropriate state regulations for state closures. Trawl RCA boundaries or Block Area Closures (BACs) may be revised or implemented via inseason action; therefore, users should refer back to this table throughout the year. Vessels fishing groundfish trawl quota pounds with groundfish non-trawl gears, under gear switching provisions at § 660.140, are subject to the limited entry fixed gear Non-Trawl RCA, as described in tables 2a (North) and 2a (South) to part 660, subpart E.

Table 1b (South) to Part 660, Subpart D—Landing Allowances for Non-IFQ Species and Pacific Whiting South of 40°10′ N Lat.
Species | Trip limit
Big skate | Unlimited.
Blackgill rockfish | Unlimited.
Cabezon | 50 lb/month.
California scorpionfish | Unlimited.
Longnose skate | Unlimited.
Longspine thornyhead (south of 34°27′ N lat.) | 24,000 lb/2 months.
Nearshore rockfish complex, Washington black rockfish and Oregon black/blue/deacon rockfish | 300 lb/month.
Other fish | Unlimited.
Pacific Spiny Dogfish | 60,000 lb/month.
Pacific whiting—Midwater Trawl | During the primary whiting season: allowed seaward of the Trawl RCA; prohibited within and shoreward of the Trawl RCA.
Pacific whiting—Large & Small Footrope Gear | Before the primary whiting season: 20,000 lb/trip. During the primary whiting season: 10,000 lb/trip.
| After the primary whiting season: 10,000 lb/trip.
Note 1 to table 1b (South): This table describes incidental landing allowances for vessels registered to a Federal limited entry trawl permit. Trip limits apply in the EEZ only; see appropriate state regulations for state trip limits. Trip limits are effective year-round unless otherwise specified for different cumulative periods (defined at § 660.11 under “Trip limits”). Trip limits are effective from 40°10′ N lat. to the U.S.-Mexico border unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms. See provisions at § 660.130 for gear restrictions and requirements by area. Vessels fishing groundfish trawl quota pounds with groundfish non-trawl gears, under gear switching provisions at § 660.140, are subject to the limited entry groundfish trawl fishery landing allowances in this table, regardless of the type of fishing gear used.

25. Amend § 660.230 by:

a. Revising paragraphs (a) and (b)(6)(i)(B);

b. Removing paragraph (d)(15); and

c. Redesignating paragraphs (d)(16) and (17) as paragraphs (d)(15) and (16).

The revisions read as follows:

§ 660.230 Fixed gear fishery—management measures.

(a) General. Most species taken in limited entry fixed gear (longline and pot/trap) fisheries will be managed with cumulative trip limits (see trip limits in tables 2b (North) and 2b (South) of this subpart), size limits (see § 660.60(h)(5)), seasons (see trip limits in tables 2b (North) and 2b (South) of this subpart and sablefish primary season details in § 660.231), gear restrictions (see paragraph (b) of this section), and closed areas (see paragraph (d) of this section and §§ 660.70 through 660.79). Cowcod, yelloweye, and California quillback rockfish retention is prohibited in all fisheries, and groundfish vessels operating south of Point Conception must adhere to GEA restrictions (see paragraph (d)(16) of this section and § 660.70). Regulations governing tier limits for the limited entry fixed gear sablefish primary season north of 36° N lat. are found in § 660.231. Vessels not participating in the sablefish primary season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see paragraph (e) of this section. The trip limits in tables 2b (North) and 2b (South) of this subpart apply to vessels participating in the limited entry groundfish fixed gear fishery and may not be exceeded.

(b) * * *

(6) * * *

(i) * * *

(B) No more than four vertical mainlines attached to or fished from the vessel (e.g., rod and reel) may be used in the water at one time.

* * * * *

26. Amend § 660.231 by revising paragraphs (b)(3)(i) and (iv) to read as follows:

§ 660.231 Limited entry fixed gear sablefish primary fishery.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to three permits may be registered for use with a single vessel during the primary season; thus, a single vessel may not take and retain, possess or land more than three primary season sablefish cumulative limits in any one year. A vessel registered for use with multiple limited entry permits is subject to per vessel limits for species other than sablefish, and to per vessel limits when participating in the daily trip limit fishery for sablefish under § 660.232. In 2025, the following annual limits are in effect: Tier 1 at 246,824 lb (111,957 kg), Tier 2 at 112,193 lb (50,890 kg), and Tier 3 at 64,110 lb (29,080 kg). In 2026 and beyond, the following annual limits are in effect: Tier 1 at 234,312 lb (106,282 kg), Tier 2 at 106,506 lb (48,310 kg), and Tier 3 at 60,860 lb (27,606 kg).

* * * * *

(iv) Incidental Pacific halibut retention north of Pt. Chehalis, WA (46°53.30′ N lat.). Pacific halibut may be retained north of Pt Chehalis by vessels participating in the sablefish primary fishery with the requisite Pacific halibut commercial fishery permit. Pacific halibut incidentally caught in the primary sablefish fishery when using bottom longline gear may be retained from April 1 through the Pacific halibut commercial fishing closure date set by the International Pacific Halibut Commission. Vessels permitted as described in this section may possess and land up to 150 lb (68 kg) dressed weight of Pacific halibut for every 1,000 lb (454 kg) dressed weight of sablefish landed, plus two additional Pacific halibut. Pacific halibut retained as described in this section may not be possessed or landed south of Pt. Chehalis.

* * * * *

27. Amend § 660.232 by revising paragraph (a)(3) to read as follows:

§ 660.232 Limited entry daily trip limit (DTL) fishery for sablefish.

(a) * * *

(3) Vessels registered for use with a limited entry fixed gear permit that does not have a sablefish endorsement may fish in the limited entry DTL fishery, consistent with regulations at § 660.230, for as long as that fishery is open during the fishing year, subject to routine management measures imposed under § 660.60(c), Subpart C. DTL limits for the limited entry fishery north and south of 36° N lat. are provided in tables 2b (North) and 2b (South) of this subpart.

* * * * *

Table 2 (North) to Part 660, Subpart E—[Removed]

28. Remove table 2 (North) to part 660, subpart E.

Table 2 (South) to Part 660, Subpart E—[Removed]

29. Remove table 2 (South) to part 660, subpart E.

30. Add tables 2a (North), 2b (North), 2a (South), and 2b (South) to part 660, subpart E to read as follows:

Table 2a (North) to Part 660, Subpart E—Non-Trawl Rockfish Conservation Area Boundaries
Latitude | Boundary
North of 46°16′ N lat.: | Shoreward EEZ-100 fm line.
46°16′ N lat.-42°00′ N lat | 30 fm line-75 fm line.
42°00′ N lat.-40°10′ N lat | Shoreward EEZ-75 fm line.
Note 1 to table 2a (North): The Non-Trawl RCA is an area closed to fishing with particular non-trawl gear types, as defined at § 660.11. Non-Trawl RCA boundaries apply in the EEZ only; see appropriate state regulations for state closures. Non-Trawl RCA boundaries may be revised via inseason action; therefore, users should refer back to this table throughout the year.

Table 2b (North) to Part 660, Subpart E—Trip Limits for Limited Entry Fixed Gear North of 40°10′ N Lat.
Species | Trip limit
Big skate | Unlimited.
Black rockfish (42°00′ N lat.-40°10′ N lat.) | CLOSED.
Cabezon (42°00′ N lat.-40°10′ N lat.) | CLOSED.
Cabezon/kelp greenling complex (Oregon) | Unlimited.
Canary rockfish | 3,000 lb/2 months.
Flatfish (includes dover sole, arrowtooth flounder, petrale sole, English sole, starry flounder) | 20,000 lb/2 months.
Lingcod (north of 42°00′ N lat.) | 11,000 lb/2 months.
Lingcod (42°00′ N lat.-40°10′ N lat.) | 2,000 lb/2 months seaward of the Non-Trawl RCA; CLOSED inside the Non-Trawl RCA.
Longnose skate | Unlimited.
Longspine thornyheads | 10,000 lb/2 months.
Nearshore rockfish complex, Oregon black/blue/deacon rockfish, & Washington black rockfish (north of 42°00′ N lat.) | 5,000 lb/2 months, no more than 1,200 lb of which may be species other than black rockfish or blue/deacon rockfish.
| See § 660.230(e) for additional trip limits for Washington black rockfish.
Nearshore rockfish complex (42°00′ N lat.-40°10′ N lat.) | CLOSED.
Other fish | Unlimited.
Other flatfish complex (north of 42°00′ N lat.) | 20,000 lb/2 months.
Other flatfish complex (42°00′ N lat.-40°10′ N lat.) | 20,000 lb/2 months seaward of the Non-Trawl RCA; CLOSED inside the Non-Trawl RCA.
Pacific cod | 1,000 lb/2 months.
Pacific ocean perch | 3,600 lb/2 months.
Pacific Spiny Dogfish | Periods 1-2: 200,000 lb/2 months. Period 3: 150,000 lb/2 months.
| Periods 4-6: 100,000 lb/2 months.
Pacific whiting | 10,000 lb per trip.
Quillback rockfish (42°00′ N lat.-40°10′ N lat.) | CLOSED.
Sablefish | 4,500 lb/week not to exceed 9,000 lb/2 months.
Shelf rockfish complex | 1,600 lb/2 months.
Shortspine thornyhead | 3,000 lb/2 months.
Slope rockfish complex & darkblotched rockfish | 8,000 lb/2 months.
Widow rockfish | 4,000 lb/2 months.
Yelloweye rockfish | CLOSED.
Yellowtail rockfish | 6,000 lb/2 months.
Note 1 to table 2b (North): Trip limits apply in the EEZ only; see appropriate state regulations for state trip limits. Trip limits are effective year-round unless otherwise specified for different cumulative periods (defined at § 660.11 under “Trip limits”). Trip limits are effective from the U.S.-Canada border to 40°10′ N lat. unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms.

Table 2a (South) to Part 660, Subpart E—Non-Trawl Rockfish Conservation Area Boundaries
Latitude | Boundary
40°10′ N lat.-37°07′ N lat | Shoreward EEZ-75 fm line.
37°07′ N lat.-34°27′ N lat | 50 fm line-75 fm line.
South of 34°27′ N lat | 100 fm line-150 fm line (also applies around islands and banks).
Note 1 to table 2a (South): The Non-Trawl RCA is an area closed to fishing with particular non-trawl gear types, as defined at § 660.11. Non-Trawl RCA boundaries apply in the EEZ only; see appropriate state regulations for state closures. Non-Trawl RCA boundaries may be revised via inseason action; therefore, users should refer back to this table throughout the year.

Table 2b (South) to Part 660, Subpart E—b Trip Limits for Limited Entry Fixed Gear South of 40°10′ N. Lat.
Species | Trip limit
Big skate | Unlimited.
Bocaccio | 8,000 lb/2 months.
Bronzespotted rockfish | CLOSED.
Cabezon (40°10′ N lat.-37°07′ N lat.) | CLOSED.
Cabezon (south of 37°07′ N lat.) | Unlimited.
California scorpionfish | 3,500 lb/2 months.
Canary rockfish | 3,500 lb/2 months.
Chilipepper rockfish (40°10′ N lat.-34° 27′ N lat.) | 10,000 lb/2 months.
Chilipepper rockfish (south of 34° 27′ N lat.) | 8,000 lb/2 months.
Cowcod | CLOSED.
Flatfish (includes dover sole, arrowtooth flounder, petrale sole, English sole, starry flounder) | 20,000 lb/2 months.
Lingcod (40°10′ N lat.-37° 07′ N lat.) | 1,600 lb/2 months seaward of the Non-Trawl RCA; 0 lb/2 months inside of the Non-Trawl RCA.
Lingcod (south of 37° 07′ N lat.) | 1,600 lb/2 months.
Longnose skate | Unlimited.
Longspine thornyhead (south of 34° 27′ N lat.) | 10,000 lb/2 months.
Nearshore rockfish complexes
Shallow nearshore rockfish complex (40°10′ N lat.-37°07′ N lat.) | CLOSED.
Shallow nearshore rockfish complex (south of 37°07′ N lat.) | 2,000 lb/2 months.
Deeper nearshore rockfish complex (40°10′ N lat.-37°07′ N lat.) | CLOSED.
Deeper nearshore rockfish complex (south of 37°07′ N lat.) | 2,000 lb/2 months, of which no more than 75 lb may be copper rockfish.
Other fish | Unlimited.
Other flatfish complex (40°10′ N lat.-37° 07′ N lat.) | 20,000 lb/2 months seaward of the Non-Trawl RCA; CLOSED inside of the Non-Trawl RCA.
Other flatfish complex (south of 37° 07′ N lat.) | 20,000 lb/2 months.
Pacific cod | 1,000 lb/2 months.
Pacific spiny dogfish | Periods 1-2: 200,000 lb/2 months Period 3: 150,000 lb/2 months Periods 4-6: 100,000 lb/2 months.
Pacific whiting | 10,000 lb per trip.
Quillback rockfish | CLOSED.
Sablefish (40°10′ N lat.-36° N lat.) | 4,500 lb/week not to exceed 9,000 lb/2 months.
Sablefish (south of 36° N lat.) | 2,500 lb/2 months.
Shelf rockfish complex (40°10′ N lat.-37° 07′ N lat.); excludes bronzespotted rockfish | 6,000 lb per 2 months, of which no more than 500 lb may be vermilion/sunset rockfish.
Shelf rockfish complex (37° 07′ N lat.-34° 27′ N lat.); excludes bronzespotted rockfish | 8,000 lb per 2 months, of which no more than 500 lb may be vermilion/sunset rockfish.
Shelf rockfish complex (south of 34° 27′ N lat.); excludes bronzespotted rockfish | 5,000 lb per 2 months, of which no more than 3,000 lb may be vermilion/sunset rockfish.
Shortspine thornyhead (40° 10′ N. lat.-34° 27′ N. lat.) | 3,000 lb/2 months.
Slope rockfish complex & darkblotched rockfish | 40,000 lb/2 months, of which no more than 6,000 lb may be blackgill rockfish.
Splitnose rockfish | 40,000 lb/2 months.
Widow rockfish (40°10′ N lat.-34° 27′ N lat.) | 10,000 lb/2 months.
Widow rockfish (south of 34° 27′ N lat.) | 8,000 lb/2 months.
Yelloweye rockfish | CLOSED.
Note 1 to table 2b (South): Trip limits apply in the EEZ only; see appropriate state regulations for state trip limits. Trip limits are effective year-round unless otherwise specified for different cumulative periods (defined at § 660.11 under “Trip limits”). Trip limits are effective from 40°10′ N lat. to the U.S.-Mexico border unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms.

31. Amend § 660.312 by adding paragraph (a)(6) to read as follows:

§ 660.312 Open access fishery—prohibitions.

* * * * *

(a) * * *

(6) Take and retain, possess, or land groundfish in the directed open access fishery without having a valid directed open access permit for the vessel.

* * * * *

32. Amend § 660.330 by:

a. Revising paragraphs (a), (b)(3) introductory text, and (b)(3)(i)(B) and (C);

b. Removing paragraph (d)(17); and

c. Redesignating paragraphs (d)(18) and (19) as paragraphs (d)(17) and (18).

The revisions read as follows:

§ 660.330 Open access fishery—management measures.

(a) General. Groundfish species taken in open access fisheries will be managed with cumulative trip limits (see trip limits in tables 3b (North) and 3b (South) of this subpart), size limits (see § 660.60(h)(5)), seasons (see seasons in tables 3a (North) and 3a (South) of this subpart), gear restrictions (see paragraph (b) of this section), and closed areas (see paragraph (d) of this section and §§ 660.70 through 660.79). Unless otherwise specified, a vessel operating in the open access fishery is subject to, and must not exceed, any trip limit, frequency limit, and/or size limit for the open access fishery. Retention of cowcod, yelloweye rockfish, and quillback rockfish off California is prohibited in all fisheries, and groundfish vessels operating south of Point Conception must adhere to GEA restrictions (see paragraph (d)(18) of this section and § 660.70). For information on the open access daily/weekly trip limit fishery for sablefish, see § 660.332 and the trip limits in tables 3b (North) and 3b (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies (see paragraph (e) of this section).

(b) * * *

(3) Gear for use inside the Non-Trawl RCA. Inside the Non-Trawl RCA, only legal non-bottom contact hook-and-line gear configurations may be used for target fishing for groundfish by vessels that participate in the directed open access sector as defined at § 660.11. Vessels must be registered to a valid directed open access permit as defined at § 660.25(i). On a fishing trip where any fishing will occur inside the Non-Trawl RCA, only one type of legal non-bottom contact gear may be carried on board, and no other fishing gear of any type may be carried on board or stowed during that trip. The vessel may fish inside and outside the Non-Trawl RCA on the same fishing trip, provided a valid declaration report as required at § 660.13(d) has been filed with NMFS OLE. Legal non-bottom contact hook-and-line gear means stationary vertical jig gear not anchored to the bottom, and groundfish troll gear, subject to the specifications in paragraphs (b)(3)(i) and (ii) of this section.

(i) * * *

(B) No more than four vertical mainlines attached to or fished from the vessel (e.g., rod & reel) may be used in the water at one time.

(C) No more than 100 hooks may be in the water at one time, with no more than 25 extra hooks on board the vessel.

* * * * *

33. Amend § 660.332 by revising paragraph (b)(1) to read as follows:

§ 660.332 Open access daily trip limit (DTL) fishery for sablefish.

* * * * *

(b) * * *

(1) Daily and/or weekly trip limits for the open access fishery north and south of 36° N lat. are provided in tables 3b (North) and 3b (South) of this subpart.

* * * * *

34. Amend § 660.333 by revising paragraph (a), redesignating paragraph (e) as paragraph (g), adding new paragraph (e), and adding paragraphs (f), (h), and (i).

The revision and additions read as follows:

§ 660.333 Open access non-groundfish trawl fishery—management measures.

(a) General. This section describes management measures for vessels that take groundfish incidentally with non-groundfish trawl gear, including vessels engaged in fishing for pink shrimp, ridgeback prawns, California halibut, or sea cucumbers.

* * * * *

(e) Non-Trawl Rockfish Conservation Area restrictions for the ridgeback prawn, California halibut, and sea cucumber fisheries. (1) 40° 10′ N lat.-38.00° N lat.: 100 fm to 150 fm during Periods 1 and 6; 100 fm to 150 fm during Periods 2, 3, 4, and 5.

(2) 38.00° N lat.-34° 27 N lat.: 100 fm to 150 fm

(3) South of 34° 27 N lat.: 100 fm to 150 fm

(f) Trip Limits for the ridgeback prawn, California halibut, and sea cucumber fisheries. Groundfish. 300 lb (136 kg) per trip. Species-specific limits described in table 3b South also apply and are counted toward the 300 lb (136 kg) groundfish per trip limit. The amount of groundfish landed may not exceed the amount of the target species landed, except that the amount of Pacific spiny dogfish landed may exceed the amount of target species landed. Pacific spiny dogfish are limited by the 300 lb (136 kg)/trip overall groundfish limit. The daily trip limits for sablefish coastwide and thornyheads south of Pt. Conception and the overall groundfish “per trip” limit may not be multiplied by the number of days of the trip. Vessels participating in the California halibut fishery south of 38°57.50′ N lat. are allowed to:

(1) Land up to 100 lb (45 kg) per day of groundfish without the ratio requirement, provided that at least one California halibut is landed; and

(2) Land up to 3,000 lb (1,361 kg) per month of flatfish, no more than 300 lb (136 kg) of which may be species other than Pacific sanddabs, sand sole, starry flounder, rock sole, curlfin sole, or California scorpionfish (California scorpionfish is also subject to the trip limits and closures in table 3b South).

* * * * *

(h) Management measures for the pink shrimp fishery north of 40° 10′ N lat. Effective April 1-October 31: Groundfish: 500 lb (227 kg)/day, multiplied by the number of days of the trip, not to exceed 1,500 lb (680 kg)/trip. The following sublimits also apply and are counted toward the overall 500 lb (227 kg)/day and 1,500 lb (680 kg)/trip groundfish limits: lingcod 300 lb (136 kg)/month (minimum 24-inch (0.61 cm) size limit); sablefish 2,000 lb (907 kg)/month; canary, thornyheads, and yelloweye rockfish are PROHIBITED. All other groundfish species taken are managed under the overall 500 lb (227 kg)/day and 1,500 lb (680 kg)/trip groundfish limits. Landings of these species count toward the per day and per trip groundfish limits and do not have species-specific limits. The amount of groundfish landed may not exceed the amount of pink shrimp landed.

(i) Management measures for the pink shrimp fishery south of 40° 10′ N lat. Effective April 1-October 31: Groundfish: 500 lb (227 kg)/day, multiplied by the number of days of the trip, not to exceed 1,500 lb (680 kg)/trip. The following sublimits also apply and are counted toward the overall 500 lb (227 kg)/day and 1,500 lb (680 kg)/trip groundfish limits: lingcod 300 lb (136 kg)/month (minimum 24-inch (0.61 cm) size limit); sablefish 2,000 lb (907 kg)/month; canary rockfish, thornyheads, and yelloweye rockfish are PROHIBITED. All other groundfish species taken are managed under the overall 500 lb (227 kg)/day and 1,500 lb (680 kg)/trip groundfish limits. Landings of all groundfish species count toward the per day, per trip or other species-specific sublimits described here and the species-specific limits described in the table above do not apply. The amount of groundfish landed may not exceed the amount of pink shrimp landed.

35. Add § 660.334 to subpart F to read as follows:

§ 660.334 Open access non-groundfish salmon troll fishery—management measures.

(a) General. This section includes management measures applicable to vessels that incidentally take and retain groundfish while participating in the West Coast salmon fishery under the regulations at part 660, subpart H (herein referred to as “salmon troll fishery”). All salmon troll vessels that take and retain groundfish species are subject to the open access trip limits, seasons, size limits, and Non-Trawl RCA restrictions listed in tables 3a (North), 3b (North), 3a (South), and 3b (South) to this subpart, unless otherwise stated in this section.

(b) Trip limits. (1) In the area north of 40° 10′ N lat., salmon trollers may retain and land up to 500 lb (227 kg) of yellowtail rockfish per month as long as salmon is on board, both within and outside of the Non-Trawl RCA. Salmon trollers may retain and land up to 1 lingcod per 2 Chinook per trip, plus 1 lingcod per trip, up to a trip limit of 10 lingcod, on a trip where any fishing occurs within the Non-Trawl RCA. The lingcod limit only applies during times when lingcod retention is allowed and is not “CLOSED”. These limits are within the limits described in table 3b (North), and not in addition to those limits.

(2) In the area south of 40° 10′ N lat., salmon trollers may retain and land up to 1 lb (0.45 kg) of yellowtail rockfish for every 2 lb (0.90 kg) of Chinook salmon landed, with a cumulative limit of 200 lb (91 kg)/month, both within and outside of the Non-Trawl RCA. This limit is within the trip limits for shelf rockfish, and not in addition to those limits. All groundfish species are subject to the open access limits, seasons, size limits, and RCA restrictions listed in tables 3a (South) and 3b (South) to this subpart, unless otherwise stated here.

Table 3 (North) to Part 660, Subpart F—[Removed]

36. Remove table 3 (North) to part 660, subpart F.

Table 3 (South) to Part 660, Subpart F—[Removed]

37. Remove table 3 (South) to part 660, subpart F.

38. Add tables 3a (North), 3b (North), 3a (South), and 3b (South) to part 660, subpart F to read as follows:

Table 3a (North) to Part 660, Subpart F—Non-Trawl Rockfish Conservation Area Boundaries
Latitude | Boundary
North of 46°16′ N lat.: | Shoreward EEZ-100 fm line.
46°16′ N lat.-42°00′ N lat. | 30 fm line-75 fm line.
42°00′ N lat.-40°10′ N lat. | Shoreward EEZ-75 fm line.
Note 1 to table 3a (North): The Non-Trawl RCA is an area closed to fishing with particular non-trawl gear types, as defined at § 660.11. Non-Trawl RCA boundaries apply in the EEZ only; see appropriate state regulations for state closures. Non-Trawl RCA boundaries may be revised via inseason action; therefore, users should refer back to this table throughout the year.

Table 3b (North) to Part 660, Subpart F—Trip Limits for Open Access North of 40°10′ N. lat.
Species | Trip limit
Big skate | Unlimited.
Black rockfish (42°00′ N. lat.-40°10′ N. lat.) | CLOSED.
Cabezon (42°00′ N. lat.-40°10′ N. lat.) | CLOSED.
Cabezon/kelp greenling complex (Oregon) | Unlimited.
Canary rockfish | 1,000 lb/2 months.
Flatfish (includes dover sole, arrowtooth flounder, petrale sole, English sole, starry flounder) | 10,000 lb/2 months.
Lingcod (north of 42°00′ N. lat.) | 9,000 lb/2 months.
Lingcod (42°00′ N. lat.-40°10′ N. lat.) | 2,000 lb/2 months seaward of the Non-Trawl RCA; CLOSED inside the Non-Trawl RCA.
Longnose skate | Unlimited.
Longspine thornyheads | 100 lb/2 months.
Nearshore rockfish complex, Oregon black/blue/deacon rockfish, & Washington black rockfish (north of 42°00′ N. lat.) | 5,000 lb/2 months no more than 1,200 lb of which may be species other than black rockfish or blue/deacon rockfish. See § 660.330(e) for additional trip limits for Washington black rockfish.
Nearshore rockfish complex (42°00′ N. lat.-40°10′ N. lat.) | CLOSED.
Other fish | Unlimited.
Other flatfish complex (north of 42°00′ N. lat.) | 10,000 lb/2 months.
Other flatfish complex (42°00′ N. lat.-40°10′ N. lat.) | 10,000 lb/2 months seaward of the Non-Trawl RCA; 0 lb/2 months inside the Non-Trawl RCA.
Pacific cod | 1,000 lb/2 months.
Pacific ocean perch | 200 lb/2 months.
Pacific Spiny Dogfish | Periods 1-2: 200,000 lb/2 months. Period 3: 150,000 lb/2 months. Periods 4-6: 100,000 lb/2 months.
Pacific whiting | 600 lb/2 months.
Quillback rockfish (42°00′ N lat.-40°10′ N lat.) | CLOSED.
Sablefish | 3,250 lb/week not to exceed 6,500 lb/2 months.
Shelf rockfish complex (north of 42°00′ N. lat.) | 1,600 lb/2 months.
Shelf rockfish complex (42°00′ N lat.-40°10′ N lat.) | 1,200 lb per 2 months.
Shortspine thornyhead | 100 lb/2 months.
Slope rockfish complex & darkblotched rockfish | 4,000 lb/2 months.
Widow rockfish | 2,000 lb/2 months.
Yelloweye rockfish | CLOSED.
Yellowtail rockfish | 3,000 lb/2 months.
Salmon Troll | See § 660.334(b)(1).
Pink Shrimp non-groundfish trawl | See § 660.333(g) and (h).
Note 1 to table 3b (North): Trip limits apply in the EEZ only; see appropriate state regulations for state trip limits. Trip limits are effective year-round unless otherwise specified for different cumulative periods (defined at § 660.11 under “Trip limits”). Trip limits are effective from the U.S.-Canada border to 40°10′ N lat. unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms.

Table 3a (South) to Part 660, Subpart F—Non-Trawl Rockfish Conservation Area Boundaries
Latitude | Boundary
40°10′ N lat.-37° 07′ N lat. | Shoreward EEZ-75 fm line.
37° 07′ N lat.-34° 27′ N lat. | 50 fm line-75 fm line.
South of 34° 27′ N lat. | 100 fm line-150 fm line (also applies around islands and banks).
Note 1 to table 3a (South): The Non-Trawl RCA is an area closed to fishing with particular non-trawl gear types, as defined at § 660.11. Non-Trawl RCA boundaries apply in the EEZ only; see appropriate state regulations for state closures. Non-Trawl RCA boundaries may be revised via inseason action; therefore, users should refer back to this table throughout the year.

Table 3b (South) to Part 660, Subpart F—Trip Limits for Open Access South of 40°10′ N. lat.
Species | Trip limit
Big skate | Unlimited.
Bocaccio | 6,000 lb/2 months.
Bronzespotted rockfish | CLOSED.
Cabezon (40°10′ N lat.-37°07′ N lat.) | CLOSED.
Cabezon (south of 37°07′ N lat.) | Unlimited.
California scorpionfish | 3,500 lb/2 months.
Canary rockfish | 1,500 lb/2 months.
Chilipepper rockfish (40°10′ N lat.-34° 27′ N lat.) | 6,000 lb/2 months.
Chilipepper rockfish (south of 34° 27′ N lat.) | 4,000 lb/2 months.
Cowcod | CLOSED.
Flatfish (includes Dover sole, arrowtooth flounder, petrale sole, English sole, starry flounder) | 10,000 lb/2 months.
Lingcod (40°10′ N lat.—37° 07′ N lat.) | 1,400 lb/2 months seaward of the Non-Trawl RCA; CLOSED inside of the Non-Trawl RCA.
Lingcod (south of 37° 07′ N lat.) | 1,400 lb/2 months.
Longnose skate | Unlimited.
Longspine thornyhead (40° 10′ to 34° 27′ N lat.) | 100 lb/2 months.
Nearshore rockfish complexes:
Shallow nearshore rockfish (40°10′ N lat.-37°07′ N lat.) | CLOSED.
Shallow nearshore rockfish (south of 37°07′ N lat.) | 2,000 lb/2 months.
Deeper nearshore rockfish (40°10′ N lat.-37°07′ N lat.) | CLOSED.
Deeper nearshore rockfish (south of 37°07′ N lat.) | 2,000 lb/2 months, of which no more than 75 lb may be copper rockfish.
Other fish (defined at § 660.11) | Unlimited.
Other flatfish complex (defined at § 660.11) | 40°10′ N lat.-37° 07′ N lat.: 10,000 lb/2 months seaward of the Non-Trawl RCA; CLOSED inside of the Non-Trawl RCA South of 37° 07′ N lat.: 10,000 lb/2 months.
Pacific cod | 1,000 lb/2 months.
Pacific Spiny Dogfish | Periods 1-2: 200,000 lb/2 months. Period 3: 150,000 lb/2 months. Periods 4-6: 100,000 lb/2 months.
Pacific whiting | 600 lb/2 months.
Quillback rockfish | CLOSED.
Sablefish (40°10′ N lat.-36° N lat.) | 3,250 lb/week not to exceed 6,500 lb/2 months.
Sablefish (south of 36° N lat.) | 2,000 lb/week not to exceed 6,000 lb/2 months.
Shelf rockfish complex (40°10′ N lat.-37° 07′ N lat.); excludes bronzespotted rockfish | 3,000 lb per 2 months, of which no more than 300 lb may be vermilion/sunset rockfish.
Shelf rockfish complex (37° 07′ N lat.-34° 27′ N lat.); excludes bronzespotted rockfish | 4,000 lb per 2 months, of which no more than 300 lb may be vermilion/sunset rockfish.
Shelf rockfish complex (south of 34° 27′ N lat.); excludes bronzespotted rockfish | 3,000 lb per 2 months, of which no more than 900 lb may be vermilion/sunset rockfish.
Shortspine thornyhead (40° 10′ N. lat.-34° 27′ N. lat.) | 100 lb/2 months.
Shortspine thornyhead and longspine thornyhead (south of 34° 27′ N. lat.) | 100 lb/day, no more than 1,000 lb/2 months for all periods.
Slope rockfish complex & darkblotched rockfish | 10,000 lb/2 months, of which no more than 2,500 lb may be blackgill rockfish.
Splitnose rockfish | 400 lb/2 months.
Widow rockfish (40°10′ N lat.-34° 27′ N lat.) | 6,000 lb/2 months.
Widow rockfish (south of 34° 27′ N lat.) | 4,000 lb/2 months.
Yelloweye rockfish | CLOSED.
Salmon Troll | See § 660.334(b)(2).
Ridgeback Prawn, California halibut, and sea cucumber | See § 660.333(e) and (f).
Pink Shrimp | See § 660.333(g) and (i).
Note 1 to table 3b (South): Trip limits apply in the EEZ only; see appropriate state regulations for state trip limits. Trip limits are effective year-round unless otherwise specified for different cumulative periods (defined at § 660.11 under “Trip limits”). Trip limits are effective from 40°10′ N lat. to the U.S.-Mexico border unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms.

39. Amend § 660.351 by revising the definition of “Boat limit” and adding in alphabetical order a definition for “Descending device” to read as follows:

§ 660.351 Recreational fishery—definitions.

* * * * *

Boat limit means the number of fish available for a vessel or boat.

Descending device means an instrument capable of releasing a fish at the depth from which the fish was caught.

* * * * *

40. Amend § 660.352 by adding paragraph (c) to read as follows:

§ 660.352 Recreational fishery—prohibitions.

* * * * *

(c) Fail to have at least one functional descending device on board ready for immediate use during a groundfish recreational fishing trip.

41. Amend § 660.360 by:

a. Adding paragraph (b)(1) and a reserved paragraph (b)(2);

b. Revising paragraph (c)(1) introductory text, table 1 to paragraph (c)(1)(i)(D), paragraphs (c)(1)(ii) through (iv) and (c)(2)(iii)(A) through (C);

c. Redesignating paragraphs (c)(2)(iii)(D) and (E) as paragraphs (c)(2)(iii)(E) and (F);

d. Adding new paragraph (c)(2)(iii)(D);

e. Revising paragraph (c)(3)(i)(A) introductory text;

f. Removing paragraph (c)(3)(ii)(C);

g. Redesignating paragraph (c)(3)(ii)(D) as paragraph (c)(3)(ii)(C) and revising it;

h. Revising paragraph (c)(3)(iii)(D);

i. Removing paragraph (c)(3)(v)(C); and

j. Redesignating paragraph (c)(3)(v)(D) as paragraph (c)(3)(v)(C) and revising it.

The revisions and additions read as follows:

§ 660.360 Recreational fishery—management measures.

* * * * *

(b) * * *

(1) All vessels participating in the groundfish recreational fishery seaward of California, Oregon, or Washington must carry on board one functional descending device as defined at § 660.351. The descending device must be available for immediate use and be available to present to an enforcement officer upon request.

(2) [Reserved]

(c) * * *

(1) Washington. For each person engaged in recreational fishing off the coast of Washington, the groundfish bag limit is nine groundfish per day, including rockfish, cabezon, and lingcod. Within the groundfish bag limit, there are sub-limits for rockfish, lingcod, and cabezon outlined in paragraph (c)(1)(i)(D) of this section. In addition to the groundfish bag limit of nine, there will be a flatfish limit of five fish, not to be counted towards the groundfish bag limit but in addition to it. The recreational groundfish fishery will open the second Saturday in March through the third Saturday in October for all species. In the Pacific halibut fisheries, retention of groundfish is governed in part by annual management measures for Pacific halibut fisheries, which are published in the Federal Register. The following seasons, closed areas, sub-limits, and size limits apply:

(i) * * *

(D) * * *

(ii) Rockfish. In areas of the EEZ seaward of Washington (Washington Marine Areas 1-4) that are open to recreational groundfish fishing, there is a seven rockfish per day bag limit, including a sub-bag limit of five canary rockfish. Taking and retaining yelloweye rockfish is prohibited in all Marine Areas.

(iii) Cabezon. In areas of the EEZ seaward of Washington (Washington Marine Areas 1-4) that are open to recreational groundfish fishing, there is a one cabezon per day bag limit.

(iv) Lingcod. In areas of the EEZ seaward of Washington (Washington Marine Areas 1-4) that are open to recreational groundfish fishing and when the recreational season for lingcod is open, there is a bag limit of two lingcod per day. The recreational fishing seasons for lingcod is open from the second Saturday in March through the third Saturday in October.

(2) * * *

(iii) * * *

(A) Marine fish. The bag limit is 10 marine fish per day, which includes rockfish, kelp greenling, cabezon, and other groundfish species; except the daily bag limit in the long-leader gear fishery is 12 fish per day with a sub-bag limit of 5 fish per day for canary rockfish. The bag limit of marine fish excludes Pacific halibut, salmonids, tuna, perch species, sturgeon, sanddabs, flatfish, lingcod, striped bass, hybrid bass, offshore pelagic species, and baitfish (e.g., herring, smelt, anchovies, and sardines). The minimum size for cabezon retained in the Oregon recreational fishery is 16 in (41 cm) total length.

(B) Lingcod. There is a three fish limit per day. The minimum size for lingcod retained in the Oregon recreational fishery is 22 in (56 cm) total length. For vessels using long-leader gear (as defined in § 660.351) and fishing inside the Recreational RCA, possession of lingcod is prohibited.

(C) Flatfish. There is a 25 fish limit per day for all flatfish, excluding Pacific halibut, but including all soles, flounders, and Pacific sanddabs.

(D) Sablefish. There is a 10 fish limit per day.

* * * * *

(3) * * *

(i) * * *

(A) Recreational rockfish conservation areas. The Recreational RCAs are areas that are closed to recreational fishing for certain groundfish. Fishing for the California rockfish, cabezon, greenling complex (RCG Complex), as defined in paragraph (c)(3)(ii) of this section, and lingcod with recreational gear, is prohibited within the Recreational RCA. It is unlawful to take and retain, possess, or land the RCG Complex and lingcod taken with recreational gear within the Recreational RCA, unless otherwise authorized in this section. A vessel fishing in the Recreational RCA may not be in possession of any species prohibited by the restrictions that apply within the Recreational RCA. For example, if a vessel fishes in the recreational salmon fishery within the Recreational RCA, the vessel cannot be in possession of the RCG Complex and lingcod while in the Recreational RCA. The vessel may, however, on the same trip fish for and retain rockfish shoreward of the Recreational RCA on the return trip to port. If the season is closed for a species or species group, fishing for that species or species group is prohibited both within the Recreational RCA and outside of the Recreational RCA, unless otherwise authorized in this section. In times and areas where a Recreational RCA is closed shoreward of a Recreational RCA line (i.e., when an “off-shore only” fishery is active in that management area) vessels may stop, anchor in, or transit through waters shoreward of the Recreational RCA line so long as they do not have any hook-and-line fishing gear in the water. Coordinates approximating boundary lines at the 30 fm (55 m) through 100 fm (183 m) depth contours can be found at §§ 660.71 through 660.73. The recreational fishing season structure and RCA depth boundaries seaward of California by management area and month are as follows:

* * * * *

(ii) * * *

(C) Dressing/fileting. Each RCG Complex filet must have the entire skin attached.

(iii) * * *

(D) Dressing/fileting. Lingcod filets may be no smaller than 14 in (36 cm) in length. Each lingcod filet must have the entire skin attached.

* * * * *

(v) * * *

(C) Dressing/fileting. Each California scorpionfish filet must have the entire skin attached.

* * * * *

42. Amend § 660.604 by revising paragraph (p)(4)(i) introductory text to read as follows:

§ 660.604 Vessel and first receiver responsibilities.

* * * * *

(p) * * *

(4) * * *

(i) The vessel must retain IFQ species (as defined at § 660.140(c)), except for Arrowtooth flounder, English sole, Dover sole, deep sea sole, Pacific sanddab, Pacific whiting, lingcod, sablefish, starry flounder, and rex sole; must retain salmon and eulachon; and must retain the following non-IFQ species: Greenland turbot, slender sole, hybrid sole, c-o sole, bigmouth sole, fantail sole, hornyhead turbot, spotted turbot, northern rockfish, black rockfish, blue rockfish, shortbelly rockfish, olive rockfish, Puget Sound rockfish, semaphore rockfish, walleye pollock, slender codling, and Pacific tom cod, with exceptions listed in paragraphs (p)(4)(i)(A) and (B) of this section.

* * * * *

[FR Doc. 2024-28035 Filed 12-13-24; 8:45 am]

BILLING CODE 3510-22-P